DEPARTMENT OF THE INTERIOR

Fish and Wildlife Service

50 CFR Part 17

RIN 1018-AG13

Endangered and Threatened Wildlife and Plants; Proposed Determination of Critical Habitat for Wintering Piping Plovers

AGENCY: Fish and Wildlife Service, Interior.

ACTION: Proposed rule.

SUMMARY: The U.S. Fish and Wildlife Service (Service) proposes to designate 146 areas along the coasts of North Carolina, South Carolina, Georgia, Florida, Alabama, Mississippi, Louisiana, and Texas as critical habitat for the wintering population of the piping plover (Charadrius melodus). This includes approximately 2,691 kilometers (1,672 miles) of shoreline along the Gulf and Atlantic coasts and along margins of interior bays, inlets, and lagoons.

The population of piping plovers that breeds in the Great Lakes States is listed as endangered, while all other piping plovers are threatened species under the Endangered Species Act of 1973, as amended (Act). All piping plovers are considered threatened species under the Act when on their wintering grounds. Critical habitat identifies specific areas that are essential to the conservation of a listed species, and that may require special management considerations or protection. The primary constituent elements for the piping plover are those habitat components that are essential for the primary biological needs of foraging, sheltering, and roosting.

This proposed rule, if made final, would result in additional review requirements under section 7 of the Act. Federal agencies may not fund, authorize, license, permit, or carry out an action that would destroy or adversely modify critical habitat. Section 4 of the Act requires us to consider economic and other impacts of specifying any particular area as critical habitat. We solicit data and comments from the public on all aspects of this proposal, including data on the economic and other impacts of the designation. We may revise this proposal to incorporate or address new information received during the comment period.

DATES: Comments: We will consider comments received by September 5, 2000. Nine public hearings are scheduled for this proposal.

Public Hearings: We have scheduled nine public hearings for this proposal. See SUPPLEMENTARY INFORMATION section for hearing dates and addresses.

Public information meetings will be held prior to each public hearing at the hearing location. The public information sessions will start at 5 p.m. and continue through the ends of the hearings. The public hearings will start at 7 p.m. and end at 9 p.m.

ADDRESSES: Send written comments and other materials concerning this proposal to Lee Elliott, Corpus Christi Ecological Services Field Office, U.S. Fish and Wildlife Service, c/o TAMU-CC, Campus Box 338, 6300 Ocean Drive, Corpus Christi, TX 78412, (361)994-9005 or e-mail to winterplovercomments@fws.gov. The complete file for this proposed rule will be available for public inspection, by appointment, during normal business hours at the above address.

FOR FURTHER INFORMATION CONTACT: Tom Serota, Field Supervisor, at the above address (telephone 361/994-9005; facsimile 361/994-8262; email tom_serota@fws.gov).

SUPPLEMENTARY INFORMATION:

Background

Description

The piping plover (Charadrius melodus), named for its melodic mating call, is a small, pale-colored North American shorebird. It weighs 43-63 grams (1.5-2.25 ounces) and is 17-18 centimeters (cm) (about 8 inches) long (Haig 1992). Its light sand-colored plumage blends in well with the beach and sand flats, part of its primary habitat. During the breeding season, the legs are bright orange, and the short stout bill is orange with a black tip. There are two single dark bands, one around the neck and one across the forehead between the eyes. Plumage and leg color help distinguish this bird from other plovers. In winter, the bill turns black, the legs remain orange but pale, and the black plumage bands on the head and neck are lost. Chicks have speckled gray, buff, and brown down, black beaks, orange legs, and a white collar around the neck. Juveniles resemble wintering adults and obtain their adult plumage the spring after they fledge (Prater et al. 1977).

Range and Biology

Piping plovers breed in three discrete areas of North America: the Northern Great Plains, the Great Lakes, and the Atlantic Coast. The Northern Great Plains breeding sites range from Alberta to Ontario, Canada, south to Kansas and Colorado. While Great Lakes breeding sites once ranged throughout the Great Lakes region, recent nesting records are limited to Michigan and Wisconsin. Atlantic Coast breeding sites range from Newfoundland, Canada, to North Carolina. Generally, piping plovers favor open sand, gravel, or cobble beaches for breeding. Breeding sites are generally found on islands, lake shores, coastal shorelines, and river margins.

Piping plovers winter in coastal areas of the United States from North Carolina to Texas. They also winter along the coast of eastern Mexico and on Caribbean islands from Barbados to Cuba and the Bahamas (Haig 1992). The international piping plover winter censuses of 1991 and 1996 located only 63% and 42% of the estimated number of breeding birds, respectively (Haig and Plissner 1993, Plissner and Haig 1997). Of the birds located on the wintering grounds during these two censuses, 89% were found on the Gulf Coast of the United States and 8% were found on the Atlantic Coast of the United States. Information from observation of color-banded piping plovers indicates that the winter ranges of the breeding populations overlap to a significant degree. Therefore, the source breeding population of a given wintering individual cannot be determined in the field unless it has been banded or otherwise marked.

Piping plovers begin arriving on the wintering grounds in July, with some late-nesting birds arriving in September. A few individuals can be found on the wintering grounds throughout the year, but sightings are rare in late May, June, and early July. Migration is poorly understood, but most piping plovers probably migrate non-stop from interior breeding areas to wintering grounds (Haig 1992). However, concentrations of spring and fall migrants have been observed along the Atlantic Coast (USFWS 1996).

Behavioral observations of piping plovers on the wintering grounds suggest that they spend the majority of their time foraging (Nicholls and Baldassarre 1988; Drake 1999a, 1999b). Primary prey for wintering plovers includes polychaete marine worms, various crustaceans, insects, and occasionally bivalve mollusks (Nicholls 1989; Zonick and Ryan 1995), which they peck from on top or just beneath the surface. Foraging usually takes place on moist or wet sand, mud, or fine shell. In some cases, this substrate may be covered by a mat of blue-green algae. When not foraging, plovers undertake various maintenance activities including roosting, preening, and bathing, aggressive encounters (with other piping plovers and other species) and moving among available habitat locations.

The habitats used by wintering birds include beaches, mud flats, sand flats, algal flats, and washover passes (areas where breaks in the sand dunes result in an inlet). Individual plovers tend to return to the same wintering sites year after year (Nicholls and Baldassarre 1990, Drake 1999a). Wintering plovers are dependent on a mosaic of habitat patches, and move among these patches depending on local weather and tidal conditions. One study of 48 wintering piping plovers in south Texas (Drake 1999a) found a mean home range size (based on a 95% distribution) of 1,262 hectares (ha) (3,117 acres (ac)), with a mean distance moved per individual (averaged across seasons) of more than 3 kilometers (km) (about 2 miles (mi)) for the fall through the spring of 1997-1998.

In late February, piping plovers begin leaving the wintering grounds to migrate back to breeding sites. Northward migration peaks in late March, and by late May most birds have left the wintering grounds (Eubanks 1994).

Population Status

In recent decades, piping plover populations have declined drastically, especially in the Great Lakes area. In the early 1900s, uncontrolled hunting drove them nearly to extinction. Protective legislation helped them to recover by 1925, and populations reached a high in the 1930s (USFWS 1994). These numbers soon plummeted, though, as recreational use of beaches increased. Plover numbers continued to decline in the 1940s and 1950s as shoreline development expanded, resulting in the loss of plover breeding habitat. River flow alteration, channelization, and reservoir construction have also led to loss of breeding habitat.

In 1973, the piping plover was placed on the National Audubon Society's Blue List of threatened species. By that time, the Great Lakes population of piping plovers had been extirpated from shoreline beaches in Illinois, Indiana, Ohio, New York, Pennsylvania, and Ontario, and only a few birds continued to nest in Wisconsin (Russell 1983). At the time the species was listed under the Endangered Species Act in 1985, the Great Lakes population numbered only 17 known breeding pairs, and the breeding areas had been reduced from sites in eight States to only northern Michigan (Stucker and Cuthbert, unpublished data). In recent years, the Great Lakes population has gradually increased and expanded to the south and west as a result of intensive conservation measures. Recent increases in the Atlantic Coast breeding population have also been attributed to intensive management and monitoring of nesting beaches. While overall the Atlantic Coast population is increasing, increases are regionally variable with some areas experiencing declining populations. On the other hand, breeding census results show a marked decline of the population breeding in the Northern Great Plains of the United States (Plissner and Haig 1997).

Previous Federal Actions

On December 30, 1982, we published a notice of review in the Federal Register (47 FR 58454) that identified vertebrate animal taxa being considered for addition to the List of Threatened and Endangered Wildlife. The notice included the piping plover as a Category 2 Candidate species, indicating that we believed the species might warrant listing as threatened or endangered, but that we had insufficient data to support a listing at that time. Subsequent review of additional data indicated that the piping plover warranted listing, and in November 1984, a proposal to list the piping plover as endangered and threatened was published in the Federal Register (49 FR 44712).

The proposed listing was based on the decline of the species and the existing threats, including habitat destruction, disturbance by humans and pets, high levels of predation, and contaminants. On December 11, 1985, the final rule was published (50 FR 50720), listing the piping plover as endangered in the Great Lakes watershed (Illinois, Indiana, Michigan, northeastern Minnesota, New York, Ohio, Pennsylvania, Wisconsin, and Ontario) and as threatened elsewhere within its range. All piping plovers on migratory routes outside of the Great Lakes watershed or on their wintering grounds are considered threatened. We did not designate critical habitat for the species at that time.

In 1986, two recovery teams were appointed to develop recovery plans for the piping plovers breeding in the Atlantic Coast States and those breeding in the Great Lakes/Northern Great Plains region. We published those plans in 1988 (USFWS 1988a, 1988b). In 1994, we began to revise the plan for the Great Lakes/Northern Great Plains plovers by developing and distributing for public comment a draft that included updated information on the species. More recently, we decided that the recovery of these two regional populations would benefit from separate recovery plans that would direct separate recovery programs. Separate recovery plans for the Great Lakes and Northern Great Plains piping plovers are presently under development. The recovery plan for the Atlantic Coast-breeding plovers was revised in 1996 (USFWS 1996).

In December 1996, Defenders of Wildlife (Defenders) filed a lawsuit against the Department of the Interior and the Service for failing to designate critical habitat for the Great Lakes population of the piping plover. Defenders filed a second similar lawsuit for the Northern Great Plains piping plover population in 1997. These lawsuits were subsequently combined (Defenders of Wildlife et al. v. Bruce Babbitt et al., Consolidated Cases Civil No. 1:96-CV-02695AER and Civil No. 1:97-CV00777AER). In February 2000, the court issued an order directing us to publish a proposed critical habitat designation for the Great Lakes population of the piping plover by June 30, 2000. Publication of a similar proposal for nesting areas of the Northern Great Plains population of piping plover by May 31, 2001, was also ordered. A subsequent order, after requesting the court to reconsider its original order relating to final critical habitat designation, directs us to finalize the critical habitat designations for the Great Lakes population by April 30, 2001, and for the Northern Great Plains population by March 15, 2002.

Since we cannot distinguish the Great Lakes and Great Plains birds on their wintering grounds, we felt it was appropriate to propose critical habitat for all U.S.-wintering piping plovers collectively. Further, we determined that the appropriate course of action would be to propose critical habitat for all U.S.-wintering piping plovers on the same schedule required, under court order, for the Great Lakes breeding population.

Critical Habitat

Critical habitat is defined in section 3(5)(A) of the Act as: (i) The specific areas within the geographic area occupied by a species, at the time it is listed in accordance with the Act, on which are found those physical or biological features (I) essential to the conservation of the species and (II) that may require special management considerations or protection; and (ii) specific areas outside the geographic area occupied by a species at the time it is listed, upon determination that such areas are essential for the conservation of the species. “Conservation” means the use of all methods and procedures that are necessary to bring an endangered or threatened species to the point at which listing under the Act is no longer necessary. Thus, critical habitat areas should provide sufficient habitat to support the species at the population level and geographic distribution that are necessary for recovery. Proposed critical habitat for the wintering population of the piping plover includes areas that we know currently support the species, and also areas for which census data may be lacking but which contain habitat essential for the conservation of the species.

Section 4(b)(2) of the Act requires that we base critical habitat proposals upon the best scientific and commercial data available, after taking into consideration the economic impact, and any other relevant impact, of specifying any particular area as critical habitat. We may exclude areas from critical habitat designation when the benefits of excluding those areas outweigh the benefits of including the areas within the critical habitat, providing the exclusion will not result in the extinction of the species.

Designation of critical habitat can help focus conservation activities for a listed species by identifying areas that contain the physical and biological features that are essential for the conservation of that species. Designation of critical habitat alerts the public as well as land-managing agencies to the importance of these areas.

Critical habitat receives protection under section 7 of the Act through the prohibition against destruction or adverse modification of critical habitat by actions carried out, funded, or authorized by a Federal agency. Section 7 also requires conferences on Federal actions that are likely to result in the adverse modification or destruction of proposed critical habitat. Aside from the protection that may be provided under section 7, the Act does not provide other forms of protection to lands designated as critical habitat. Because consultation under section 7 of the Act does not apply to activities on private or other non-Federal land that do not involve a Federal action, critical habitat designation would not afford any protection under the Act against such activities on these lands.

Designating critical habitat does not, in itself, lead to the recovery of a listed species. The designation does not establish a reserve, create a management plan, establish numerical population goals, prescribe specific management practices (inside or outside of critical habitat), or directly affect areas not designated as critical habitat. Specific management recommendations for areas designated as critical habitat are most appropriately addressed in recovery and management plans, and through section 7 consultation and section 10 permits.

Critical habitat identifies specific areas that are essential to the conservation of a listed species and that may require special management considerations or protections. Areas described in the approved recovery plans (USFWS 1988, 1996) as essential to the conservation of the wintering population of the piping plover are proposed as critical habitat, if recent data supported consistent use and habitat remains suitable. However, the recovery plans did not have available the most recent comprehensive winter survey data and did not identify all possible areas essential to the survival and recovery of the species. Thus, we identified additional areas essential to the species' conservation.

Primary Constituent Elements

In accordance with section 3(5)(A)(i) of the Act and regulations at 50 CFR 424.12, in determining which areas to propose as critical habitat, we are required to base critical habitat determinations on the best scientific and commercial data available and to consider those physical and biological features that are essential to the conservation of the species and that may require special management considerations and protection. Such requirements include, but are not limited to, space for individual and population growth, and for normal behavior; food, water, air, light, minerals, or other nutritional or physiological requirements; cover or shelter; and habitats that are protected from disturbance or are representative of the historic geographical and ecological distributions of a species.

The primary constituent elements essential for the conservation of wintering piping plovers are those habitat components that support foraging, roosting, and sheltering and the physical features necessary for maintaining the natural processes that support these habitat components. The primary constituent elements are found in geologically dynamic coastal areas that support or have the potential to support intertidal beaches and flats (between annual low tide and annual high tide) and associated dune systems and flats above annual high tide.

Important components of intertidal flats include sand and/or mud flats with no or very sparse emergent vegetation. In some cases, these flats may be covered or partially covered by a mat of blue-green algae. Adjacent unvegetated or sparsely vegetated sand, mud, or algal flats above high tide are also important, especially for roosting piping plovers. Such sites may have debris, detritus (decaying organic matter), or micro-topographic relief (less than 50 cm above substrate surface) offering refuge from high winds and cold weather. Important components of the beach/dune ecosystem include surf-cast algae, sparsely vegetated backbeach (beach area above mean high tide seaward of the dune line, or in cases where no dunes exist, seaward of a delineating feature such as a vegetation line, structure, or road), spits, and washover areas. Washover areas are broad, unvegetated zones with little or no topographic relief, that are formed and maintained by the action of hurricanes, storm surge, or other extreme wave action. Several of these components (sparse vegetation, little or no topographic relief) are mimicked in artificial habitat types used less commonly by piping plovers (e.g., dredge spoil sites).

These habitat components are a result of the dynamic geological processes that dominate coastal landforms throughout the wintering range of piping plovers. These geologically dynamic coastal regions are controlled by processes of erosion, accretion, succession, and sea-level change. The integrity of the habitat components depends upon daily tidal events and regular sediment transport processes, as well as episodic, high-magnitude storm events; these processes are associated with the formation and movement of barrier islands, inlets, and other coastal landforms. By their nature, these features are in a constant state of change; they may disappear, only to be replaced nearby as coastal processes act on these habitats. Given that piping plovers evolved in this dynamic system, and that they are dependent upon these ever-changing features for their continued survival and eventual recovery, our proposed critical habitat boundaries incorporate these natural processes and include sites that we expect will develop appropriate habitat components in the future.

In most areas, wintering piping plovers are dependent on a mosaic of sites distributed throughout the landscape. The annual, daily, and even hourly availability of the habitat patches is dependent on local weather and tidal conditions. For example, a single piping plover may leave a site if it becomes inundated by a high tide or storm event, or if high winds or cold temperatures make the site unsuitable for foraging or roosting. This bird will move to other patches within the landscape mosaic that might provide refuge from inclement weather conditions, or that simply provide a roosting site until conditions become favorable to resume foraging.

Methods

In determining areas that are essential to conserve the wintering population of piping plover, we used the best scientific and commercial data available. We solicited information from knowledgeable biologists and reviewed the available information pertaining to habitat requirements of the species. To map areas essential to the conservation of the species, we used data on known piping plover wintering locations and regional Geographic Information Systems coverages. Sources of data providing these locations include two international piping plover censuses carried out in January of 1991 and 1996, published reports, Christmas Bird Counts, and other data from surveys focusing on shorebird distribution and abundance. Areas that were identified in the approved recovery plans and current draft recovery plans as essential for the recovery of the species were also used to initially identify important areas.

Those areas along the coast for which occurrence data indicate a consistent annual use by piping plovers are included as units in this proposed designation. In some areas, adequate census data are not available to provide reliable presence or absence information for the plover. These areas are in remote locations where censuses are logistically difficult. However, the physical and biological features essential to piping plovers are known to be at least sporadically present in these dynamic areas, and our belief that these areas support piping plovers when essential habitat features are present is biologically sound. In addition, piping plovers are known to change their areas of use with changes in tides and weather, further lending credence to the belief that these areas are at least occasionally used by the species. Thus, we consider these areas essential to the conservation of the species.

Rates of erosion and accretion along the coastal regions within the area considered for designation of critical habitat are highly variable. Simultaneous with shoreline movements are the changes in vegetation and dune structure in these coastal areas. These changes will also result in shifts in the geographic location of primary constituent elements. While the amount of area meeting the description of primary constituent elements will probably change very little over time, its location can vary markedly. In Texas, erosion rates in some areas can be as much as 23 meters (m) (75 feet) per year, while in other areas of the Texas coast, accretion can be occurring at a rate as high as 51 m (167 feet) per year. Changes in the vegetation line along the Texas coast are of a similar order of magnitude (Paine and Morton 1989). The shifting of islands along the Louisiana coast can be extreme. For example, East Timbalier (included in the proposed critical habitat designation) has shifted as much as 2 km (1.2 mi) since 1887 (Louisiana Geological Survey 1992). Erosion in the vicinity of Cape San Blas, Florida, is as much as 9 m (30 feet) per year, and accretion can be as much as 19 m (62 feet) per year (Davis 1997). Likewise, shoreline in the vicinity of Longboat Pass, Florida, has moved 300 m (984 feet) between 1883 and 1970 (Dean 1989). In order to insure that maps adequately capture areas containing primary constituent elements over the foreseeable future, critical habitat boundaries include adjacent areas seaward of areas containing primary constituent elements (to insure capture of accreting shoreline and island shifting) and landward (to insure capture of eroding shorelines and island shifting).

We did not map critical habitat in sufficient detail to exclude all currently developed sites consisting of buildings, marinas, paved areas, boat ramps, and similar structures. These areas do not contain primary constituent elements essential for piping plover conservation, and are not critical habitat even though they are within the mapped boundaries. Designating specific locations for critical habitat for the piping plovers is difficult because the coastal areas they use are constantly changing due to storm surges, flood events, and other natural geo-physical alterations of beaches and shorelines. Areas seaward of the beach and covered by water (e.g., open ocean or bays) will not contain one or more of the primary constituent elements, and are not critical habitat. Because of the dynamics of coastal areas, however, areas now covered by water may in the future become land, and will then under this designation become critical habitat if they fall within the mapped boundaries.

Proposed Critical Habitat Designation/Land Ownership

The proposed critical habitat areas contained within the conservation units described below constitute our best evaluation of areas needed for the conservation of the wintering piping plover. Proposed critical habitat may be revised should new information become available prior to the final rule, and existing critical habitat may be revised through rulemaking if new information becomes available after the final rule.

Table 1 provides a summary of the land ownership and linear shoreline distances proposed as critical habitat. Table 2 provides land ownership and area measurements. Estimates reflect the total area within the mapped critical habitat conservation unit boundaries, without regard to the presence of primary constituent elements. The area actually affected by this proposal is, therefore, less than that indicated in Table 2.

Table 1.—Linear Shoreline Distances Measured in Kilometers (Miles) Proposed for Designation as Critical Habitat for Wintering Piping Plovers, by State (Rows) and Ownership (Columns).
| Federal | State | Private | Total
North Carolina | 117 (73) | 65 (40) | 65 (40 | 247 (153)
South Carolina | 23 (14) | 50 (31) | 38 (24) | 111 (69)
Georgia | 53 (33) | 76 (47) | 30 (19) | 159 (99)
Florida | 106 (66) | 150 (93) | 79 (49) | 335 (208)
Alabama | 14 (9) | 23 (14) | 59 (37) | 96 (60)
Mississippi | 98 (61) |  | 113 (70) | 211 (131)
Louisiana | 100 (62) | 169 (105) | 282 (175) | 551 (342)
Texas | 459 285) | 85 (53) | 437 (272) | 981 (610)
Total | 970 (603) | 618 (383) | 1,103 (686) | 2,691 (1,672

Table 2.—Total Area of Units, Expressed as Hectares (Acres), Proposed for Designation as Critical Habitat for Wintering Piping Plovers, by State (Rows) and Ownership (Columns).
| Federal | State | Private | Total
North Carolina | 6,679 (16,504) | 15,917 (39,331) | 2,635 (6,511) | 25,231 (62,346)
South Carolina | 1,585 (3,917) | 7,147 (17,660) | 1,387 (3,427) | 10,119 (25,004)
Georgia | 2,461 (6,081) | 10,357 (25,592) | 2,355 (5,819) | 15,173 (37,492)
Florida | 17,830 (44,058) | 56,867 (140,520) | 1,696 (4,191) | 76,393 (188,767)
Alabama | 168 (415) | 1,038 (2,565) | 1,561 (3,857) | 2,767 (6,837)
Mississippi | 28,362 (70,083) | 18,517 (45,756) | 2,549 (6,299) | 49,428 (122,138)
Louisiana | 51,480 (127,207) | 386,746 (955,660) | 81,451 (201,268) | 519,677 (1,284,136)
Texas | 58,758 (145,1913) | 69,416 (171,529) | 24.872 (71.435) | 153,036 (378,156)
Total | 167,323 (413,459) | 566,005 (1,398,613) | 118,496 (292,807) | 851,824 (2,104,879)

Lands proposed as critical habitat have been divided into 146 critical habitat conservation units that contain areas with the primary constituent elements for the piping plover in the wintering range of the species. These units are found in all eight States where the piping plover winters. Below we describe each unit in terms of its location, size, and ownership. Sizes of units that include linear stretches of beach are given in kilometers (miles), whereas broader areas, such as barrier islands, are portrayed in hectares (acres).

North Carolina

Unit NC-1: Oregon Inlet. 11.8 km (7.3 mi) of shoreline in Dare County.

This unit is surrounded by Cape Hatteras National Seashore and Pea Island National Wildlife Refuge, but is mostly privately owned. This unit includes lands on either side of Oregon Inlet.

Unit NC-2: Cape Hatteras Point. 13.0 km (8.1 mi) of shoreline in Dare County.

The majority of the unit is within Cape Hatteras National Seashore. This unit extends from the Cape Hatteras Lighthouse to the Fish Dump.

Unit NC-3: Clam Shoals. 4.5 km (2.8 mi) of shoreline in Dare County.

The entire unit is owned by the State. This unit includes several islands in Pamlico Sound known as Bird Islands.

Unit NC-4: Hatteras Inlet. 19.8 km (12.4 mi) of shoreline in Dare and Hyde Counties.

The majority of the unit is surrounded by Cape Hatteras National Seashore, but is privately owned. This unit includes lands from the end of Highway 12 to Green Island on either side of Hatteras Inlet and all of “Old DOT” spoil island.

Unit NC-5: Ocracoke Island. 5.9 km (3.7 mi) of shoreline in Hyde County.

The majority of the unit is within Cape Hatteras National Seashore. This unit extends from Ocracoke Island Airport to Ocracoke Inlet.

Unit NC-6: Portsmouth Island-Cape Lookout. 54.6 km (33.9 mi) of shoreline in Carteret County.

The entire unit is within Cape Lookout National Seashore. This unit extends southwest from Ocracoke Inlet, and includes Atlantic shoreline to the west sides of islands on Pamlico Sound. Islands include Casey, Sheep, Portsmouth, Whalebone, Kathryne Jane, and Merkle Hammock Islands. This unit also extends from Old Drum Inlet west to New Drum Inlet and from New Drum Inlet west 1.6 km (1.0 mi).

Unit NC-7: South Core Banks. 17.3 km (10.8 mi) of shoreline in Carteret County.

The entire unit is within Cape Lookout National Seashore. This unit extends from Cape Lookout Lighthouse and includes all of Cape Point.

Unit NC-8: Shackleford Banks. 15.7 km (9.8 mi) of shoreline in Carteret County.

The entire unit is within Cape Lookout National Seashore. This unit is in two parts—the eastern 2.4 km (1.5 mi) of Shackleford Banks, including the islands, and the western-most 3.2 km (2.0 mi) of Shackleford Banks.

Unit NC-9: Rachel Carson. 12.6 km (7.8 mi) of shoreline in Carteret County.

The entire unit is within the Rachel Carson National Estuarine Research Reserve. This unit includes islands south of Beaufort including Horse Island, Carrot Island, and Lennox Point.

Unit NC-10: Bogue Inlet. 6.4 km (4.0 mi) of shoreline in Carteret and Onslow Counties.

The majority of the unit is privately owned, with the remainder falling within Hammocks Beach State Park. This unit extends from the roadless areas on the western end of Bogue Banks, including the sandy shoal islands, to Bogue Inlet and the eastern tip of Bear Island, 1.6 km (1.0 mi) from Bogue Inlet west.

Unit NC-11: Topsail. 13.2 km (8.2 mi) of shoreline in Pender County and Hanover County.

The entire area is privately owned. This unit extends from the east tip (0.4 km (.25 mi)) of Figure Eight Island, northeast to the west tip (0.4 km (.25 mi)) of Topsail Beach. It includes both Rich Inlet and New Topsail Inlet.

Unit NC-12: Figure Eight Island. 6.5 km (4.0 mi) of shoreline in New Hanover County.

The majority of the unit is privately owned. This unit includes the west tip of Figure Eight Island (0.8 km (0.5 mi)), including mudflats northwest of Mason Inlet.

Unit NC-13: Masonboro. 3.3 km (2.1 mi) of shoreline in New Hanover County.

The entire unit is within the NC National Estuarine Research Reserve. This unit includes the northern tip of Masonboro Island.

Unit NC-14: Carolina Beach Inlet. 10.3 km (6.4 mi) of shoreline in New Hanover County.

The majority of the unit is within Crowe Sound on Masonboro Island and is owned by the NC National Estuarine Research Reserve. This unit extends approximately 3.2 km (2.0 mi) north of the inlet to 1.2 km (0.75 mi) south of the inlet.

Unit NC-15: Ft. Fisher. 32.9 km (20.4 mi) of shoreline in New Hanover and Brunswick Counties.

The majority of the unit is within Ft. Fisher State Recreation Area. This unit extends from the Ft. Fisher Islands to south of Old Corn Cake Inlet approximately 0.8 km (0.5 mi) on Smith Island.

Unit NC-16: Lockwood Folly Inlet. 1.8 km (1.1 mi) of shoreline in Brunswick County.

The entire unit is on Oak Island and privately owned. This unit extends from the end of West Beach Drive, west to Lockwood Folly Inlet.

Unit NC-17: Shallotte Inlet. 9.5 km (5.9 mi) of shoreline in Brunswick County.

The entire unit is privately owned. This unit extends from Shallotte Inlet and runs east approximately 2.1 km (1.3 mi) on Atlantic Ocean shoreline and Intracoastal waterway side. The island south of Shallotte Inlet is also included.

Unit NC-18: Mad Inlet. 7.9 km (5.0 mi) of shoreline in Brunswick County.

The entire unit is privately owned. This unit extends from the western end of Main Street to Bird Island and includes the marsh areas north of Sunset Beach.

South Carolina

Unit SC-1: Waites Island-North. 4.0 km (2.5 mi) of shoreline in Horry County.

This unit includes the northern end of Waites Island, and the majority of the unit is privately owned.

Unit SC-2: Waites Island-South. 2.4 km (1.2 mi) of shoreline in Horry County.

This unit includes the southern end of Waites Island and is mostly privately owned.

Unit SC-3: Murrells Inlet/Huntington Beach. 6.5 km (4.0 mi) of shoreline in Georgetown County.

The majority of the unit is within Huntington Beach State Park. This unit extends from the groins north of Murrells Inlet and south to the northern edge of North Litchfield Beach.

Unit SC-4: Litchfield. 0.9 km (0.6 mi) of shoreline in Georgetown County.

This unit includes the southern tip of Litchfield Beach and is mostly privately owned.

Unit SC-5: North Inlet. 5.8 km (3.7 mi) of shoreline in Georgetown County.

The majority of the unit is within Tom Yawley Wildlife Center Heritage Preserve (HP). This unit extends to the north of the inlet on Debidue Beach and to the south of the inlet on North Island.

Unit SC-6: North Santee Bay Inlet. 13.8 km (8.7 mi) of shoreline in Georgetown County.

The majority of the unit is within the Tom Yawley Wildlife Center HP and the Santee-Delta Wildlife Management Area. This unit is at the North Santee Bay inlet and includes lands of South Island, Santee Point, Cedar Island, and all of North Santee Sandbar.

Unit SC-7: Cape Romain. 24.9 km (15.5 mi) of shoreline in Charleston County.

The majority of the unit is within Cape Romain National Wildlife Refuge. This unit includes the southern portion of Cape Island, the southernmost portion of Lighthouse Island, and the southern side of the far eastern tip of Raccoon Key.

Unit SC-8: Bull Island. 7.7 km (5.0 mi) of shoreline in Charleston County.

The majority of the unit is within Cape Romain National Wildlife Refuge and land owned by the South Carolina Department of Natural Resources. This unit is the southern portion of Bull Island at the inlet and northeast tip of Capers Island HP at the inlet.

Unit SC-9: Stono Inlet. 16.0 km (9.9 mi) of shoreline in Charleston County.

Most of this unit is privately owned. A portion of the unit is Bird Key-Stono HP.

Unit SC-10: Seabrook Island. 3.5 km (2.5 mi) of shoreline in Charleston County.

This unit extends from Captain Sams Inlet to the southwest approximately 3.5 km (2.5 mi). Most of this unit is privately owned.

Unit SC-11: Deveaux Bank. 6.1 km (3.7 mi) of shoreline in Charleston County.

The entire unit is within Deveaux Bank HP. This unit includes all of Deveaux island.

Unit SC-12: Otter Island. 4.1 km (2.5 mi) of shoreline in Colleton County.

The majority of the unit is within St. Helena Sound HP. This unit includes the southern portion of Otter Island.

Unit SC-13: Harbor Island. 3.9 km (2.5 mi) of shoreline in Beaufort County.

The majority of the unit is State-owned. This unit extends from the northeastern tip of Harbor Island and includes all of Harbor Spit.

Unit SC-14: Caper's Island. 5.7 km (3.7 mi) of shoreline in Beaufort County.

Most of this unit is privately owned. This unit includes the entire Atlantic Coast shoreline of Caper's Island.

Unit SC-15: Hilton Head. 6.0 km (3.7 mi) of shoreline in Beaufort County.

The majority of this unit is State-owned. This unit includes the northeastern tip (Atlantic Ocean side) of Hilton Head Island and all of Joiner Bank.

Georgia

Unit GA-1: Tybee Island. 3.4 km (2.1 mi) of shoreline in Chatham County.

The majority of the unit is privately owned. This unit extends along the northern tip if Tybee Island starting from 0.8 km (.5 mi) northeast from the intersection of Crab Creek and Highway 80 to 0.7 km (.41 mi) northeast from the intersection of Highway 80 and Horse Pen Creek.

Unit GA-2: Little Tybee Island. 12.3 km (7.6 mi) of shoreline in Chatham County.

The majority of the unit is within Little Tybee Island State Heritage Preserve. This unit extends just south of the first inlet to Wassaw Sound along the Atlantic Ocean coastline.

Unit GA-3: North Wassaw Island. 4.0 km (2.5 mi) of shoreline in Chatham County.

The entire unit is within Wassaw National Wildlife Refuge. This unit extends from Wassaw Sound south along the Atlantic Coastline approximately 1.6 km (1.0 mi).

Unit GA-4: South Wassaw Island. 3.3 km (2.0 mi) of shoreline in Chatham County.

The entire unit is within Wassaw National Wildlife Refuge. This unit extends from the last southern 1.6 km (1.0 mi.), around the southern tip of Wassaw Island, up to the first inlet.

Unit GA-5: Ossabaw Island. 15.1 km (9.4 mi) of shoreline in Chatham County.

The entire unit is within Ossabaw Island State HP. This unit includes the northeastern tip (Camp Creek then east ) and 12 km (7.5 mi) south along the Atlantic Ocean shoreline to a point 2.8 km (1.75 mi) past the center inlet.

Unit GA-6: St. Catherine's Island Bar. 6.6 km (4.1 mi) of shoreline in Liberty County.

The entire unit is State owned and located east-northeast of St. Catherines Island. This unit includes the entire St. Catherine's Island Bar.

Unit GA-7: McQueen's Inlet. 27.2 km (16.9 mi) of shoreline in Liberty County.

The majority of the unit is private land along the eastern-central coastline on St. Catherines Island. This unit extends from McQueen's Inlet north approximately 3.5 km (2.2 mi) and south approximately 1.6 km (1.0 mi).

Unit GA-8: St. Catherine's Island. 3.5 km (2.2 mi) of shoreline in Liberty County.

The majority of the unit is private land on the southern tip of St. Catherine's Island. This unit starts 1.2 km (0.75 mi) north of Sapelo Sound and stops inland at Brunsen Creek.

Unit GA-9: Blackbeard Island. 6.1 km (3.8 mi) of shoreline in McIntosh County.

The entire unit is within the Blackbeard Island National Wildlife Refuge. This unit includes the northeastern portion of the island.

Unit GA-10: Sapelo Island. 2.4 km (1.5 mi) of shoreline in McIntosh County.

The entire unit is within a State Wildlife Management Unit within Sapelo Island. The unit extends south of Cabretta tip approximately 1.6 km (1.0 mi).

Unit GA-11: Wolf Island. 12.3 km (7.7 mi) of shoreline in McIntosh County.

The majority of the unit is within Wolf Island National Wildlife Refuge and private lands just north of the Refuge. The unit includes the eastern half of Wolf Island.

Unit GA-12: Egg Island Bar. 3.8 km (2.4 mi) of shoreline in McIntosh County.

This unit is State owned and includes all of Egg Island Bar.

Unit GA-13: Little St. Simon's Island. 15.1 km (9.4 mi) of shoreline in Glynn County.

The majority of the unit is private land on Little St. Simon's Island. This unit includes the entire eastern coastline along Little St. Simon's Island.

Unit GA-14: Sea/St. Simon's Island. 3.9 km (2.4 mi) of shoreline in Glynn County.

The majority of the unit is private land on the south tip of Sea Island and on the east beach of St. Simons Island. This unit extends north of Gould's Inlet (Sea Island) and south of Gould's Inlet (St. Simons Island).

Unit GA-15: Jekyll Island. 2.8 km (1.7 mi) of shoreline in Glynn County.

The majority of the unit is within State lands on Jekyll Island. This unit includes the southern region of Jekyll Island.

Unit GA-16: Cumberland Island. 36.6 km (22.7) of shoreline in Camden County.

The majority of the unit is along Cumberland Island Wilderness Area and Cumberland Island National Seashore. This unit includes the majority of the eastern Atlantic Ocean shoreline of Cumberland Island.

Florida

Unit FL-1: Big Lagoon. 1.4 km (0.9 mi) of shoreline in Escambia County.

The majority of the unit is within Big Lagoon State Recreation Area. This unit includes the peninsula areas and islands of the State lands.

Unit FL-2: Big Sabine. 6.7 km (4.2 mi) of shoreline in Escambia County.

The majority of the unit is within Gulf Islands National Seashore. This unit includes areas adjacent to Santa Rosa Sound of Big Sabine Point and adjacent embayment.

Unit FL-3: Navarre Beach. 2.9 km (1.8 mi) of shoreline in Escambia and Santa Rosa Counties.

The majority of the unit is within lands owned by Gulf Islands National Seashore and managed by the Santa Rosa Island Authority. This unit includes lands adjacent to Santa Rosa Island.

Unit FL-4: Marifarms. 12.5 km (7.8 mi) of shoreline in Bay County.

The majority of the unit is a mixture of State and private lands. This unit extends just east of Cedar Point and ends on far east side of the southeastern-most Marifarms impoundment.

Unit FL-5: Shell/Crooked Islands. 46.8 km (29.0 mi) of shoreline in Bay County.

The entire unit is within Tyndall Air Force Base. This unit includes all of Shell Island, Crooked Island West, and Crooked Island East.

Unit FL-6: Upper St. Joe Peninsula. 8.2 km (5.1 mi) of shoreline in Gulf County.

The majority of the unit is within St. Joseph State Park. This unit includes the northern portion of the peninsula.

Unit FL-7: Cape San Blas. 5.1 km (3.2 mi) of shoreline in Gulf County.

The majority of the unit is within Eglin Air Force Base. This unit includes the area known as the cape.

Unit FL-8: St. Vincent Island. 11.6 km (7.2 mi) of shoreline in Franklin County.

The majority of the unit is within St. Vincent National Wildlife Refuge. This unit includes the western end of St. Vincent Island and areas adjacent to West Pass, the eastern end of St. Vincent Island, and the western portion of Little St. George Island.

Unit FL-9: East St. George Island. 27.8 km (17.3 mi) of shoreline in Franklin County.

The majority of the unit is within St. Geroge State Park. This unit includes the State lands on the eastern portion of St. George Island.

Unit FL-10: Yent Bayou. 4.7 km (2.9 mi) of shoreline in Franklin County.

The majority of the unit is State owned. This unit is adjacent to the area known as Royal Bluff.

Unit FL-11: Carabelle Beach. 4.1 km (2.5 mi) of shoreline in Franklin County.

The area within this unit is privately owned. This unit is the peninsula created by Boggy Jordon Bayou.

Unit FL-12: Lanark Reef. 8.8 km (5.5 mi) of shoreline in Franklin County.

The entire unit is State owned. This unit includes the entire island.

Unit FL-13: Phipps Preserve. 4.3 km (2.7 mi) of shoreline in Franklin County.

The majority of the unit is within Phipps Preserve. This unit includes the western portion of Alligator Point.

Unit FL-14: Hagens Cove. 20.3 km (12.6 mi) of shoreline in Taylor County.

The majority of the unit is within Big Bend Wildlife Management Area. This unit extends from Sponge Point to Piney Point.

Unit FL-15: Anclote Keys. 10.4 km (6.4 mi) of shoreline in Pasco and Pinellas Counties.

The majority of the unit is within Anclote Key State Preserve. This unit extends from North Anclote Key to the lighthouse.

Unit FL-16: Three Rooker Island. 7.0 km (4.3 mi) of shoreline in Pinellas County.

The majority of the unit is within Anclote Key State Preserve. This unit includes all the islands of this complex.

Unit FL-17: North Honeymoon Island. 4.6 km (2.9 mi) of shoreline in Pinellas County.

The majority of the unit is within Honeymoon Island State Recreation Area. This unit extends from North Point to the midpoint of Honeymoon Island.

Unit FL-18: South Honeymoon Island. 3.0 km (1.9 mi) of shoreline in Pinellas County.

The majority of the unit is private land. This unit is at the southern end of Honeymoon Island and encompasses the far southeastern tip.

Unit FL-19: Caladesi Island. 4.9 km (3.0 mi) of shoreline in Pinellas County.

The majority of the unit is within Caladesi Island State Park. This unit extends from Hurricane Pass to Dunedin Pass on the Gulf of Mexico side.

Unit FL-20: Shell Key and Mullet Key. 14.9 km (9.2 mi) of shoreline in Pinellas County.

The majority of the unit is within Fort Desoto Park. This unit includes the Shell Key island complex and the northwest portion of Mullet Key.

Unit FL-21: Egmont Key. 6.8 km (4.2 mi) of shoreline in Hillsborough County.

The majority of the unit is within Egmont Key National Wildlife Refuge. This unit includes the entire island.

Unit FL-22: Cayo Costa. 5.6 km (3.5 mi) of shoreline in Lee County.

The majority of the unit is within Cayo Costa State Park, and much of the remaining area is in the Cayo Costa Florida Conservation and Recreation Lands (CARL) acquisition project. This unit extends near the north end of the island and includes Murdock Point.

Unit FL-23: North Captiva Island. 2.9 km (1.8 mi) of shoreline in Lee County.

The unit is within the Cayo Costa CARL land purchase project. This unit extends from Captiva pass at the north to approximately Foster Bay at the south.

Unit FL-24: Captiva Island and Sanibel Island. 2.9 km (1.8 mi) of shoreline in Lee County.

The unit spans the Wulfert Channel that separates Captiva from Sanibel to the south. The large majority of the unit is on Sanibel, extending south to include Bowmans Beach County Park.

Unit FL-25: Bunch Beach. 7.0 km (4.4 mi) of shoreline in Lee County.

This unit is mostly within a CARL Estero Bay acquisition project. It lies along San Carlos Bay, on the mainland between Sanibel Island and Estero Island (Fort Myers Beach). It includes Bunch Beach at the end of John Morris Road on the mainland and the western tip of Estero Island (Bodwitch Point).

Unit FL-26: Estero Island. 4.3 km (2.7 mi) of shoreline in Lee County.

The majority of the unit is privately owned. The unit consists of approximately the southern third of the island's Gulf-facing shoreline (excluding south-facing shoreline at the south end of the island that faces Big Carlos Pass rather than the Gulf).

Unit FL-27: Marco Island. 10.6 km (6.5 mi) of shoreline in Collier County.

The unit is mostly privately owned, except for the Sand Dollar Key area at Tigertail Beach. The unit extends from uninhabited islands on the north side of Big Marco Pas through Sand Dollar Island and Tigertail Beach at the north end of the island, to Marco Island's south end at Caxambas Pass. The islands north of Big Marco Pass are within the Rookery Bay CARL acquisition project.

Unit FL-28: Marquesas Keys. 20.5 km (12.7 mi) of shoreline in Monroe County.

The unit comprises the roughly circular atoll that encloses Mooney Harbor, including Gull Keys and Mooney Harbor Key. The entire unit is within Key West National Wildlife Refuge.

Unit FL-29: Boca Grande/Woman/Ballast Keys. 8.8 km (5.5 mi) of shoreline in Monroe County.

Boca Grande and Woman Keys, east of the Marquesas Keys, are within Key West National Wildlife Refuge. Ballast Key is privately owned.

Unit FL-30: Bahia Honda/Ohio Keys. 12.1 km (7.5 mi) of shoreline in Monroe County.

This unit comprises Bahia Key (including a small island off its southwest shore), which is almost entirely owned by Bahia Honda State Park, plus Ohio Key, which is privately owned.

Unit FL-31: Lower Matecumbe Key. 3.4 km (2.1 mi) of shoreline in Monroe County.

Part of the unit is at Sea Oats Beach, owned by the Village of Islamorada. The remaining is at Ann's Beach.

Unit FL-32: Sandy Key/Carl Ross Key. 2.5 km (1.6 mi) of shoreline in Monroe County.

This unit consists of two adjoining islands in Florida Bay, roughly south of Flamingo in Everglades National Park. The entire area is owned and managed by the National Park Service.

Unit FL-33: St. Lucie Inlet. 4.1 km (2.6 mi) of shoreline in Martin County.

The unit includes a small area on the north shore of St. Lucie Inlet. The great majority of the unit is on the inlet's south side, including Saint Lucie Inlet State Preserve, which is administered by Jonathan Dickinson State Park.

Unit FL-34: Ponce de Leon Inlet. 3.4 km (2.2 mi) of shoreline in Volusia County.

The majority of the unit is within Smyrna Dunes Park and Lighthouse Point Park. This unit extends on either side of the inlet.

Unit FL-35: Huguenot. 25.1 km (15.5 mi) of shoreline in Nassau and Duval Counties.

The majority of the unit is within Big Talbot Island State Park, Little Talbot Island State Park, and the Tinucuan Ecological and Historical Preserve. This unit extends from the Simpson Creek inlet to the inlet of the St. Johns River.

Unit FL-36: Tiger Islands. 4.8 km (3.0 mi) of shoreline in Nassau County.

The entire unit is privately owned. This unit extends the northern tip of Tiger Island running southeast along the Cumberland Sound side of Tiger and Little Tiger Islands including the mouth of Tiger Creek.

Alabama

Unit AL-1: Isle Aux Herbes. 13.3 km (8.3 mi) of shoreline in Mobile County.

This unit includes Mississippi Sound shoreline on Isle Aux Herbes and is State-owned.

Unit AL-2: Dauphin, Little Dauphin, and Pelican Islands. 77.8 km (48.3 mi) of shoreline in Mobile County.

This unit includes areas of Mississippi Sound, Mobile Bay, and Gulf of Mexico shoreline on Dauphin, Little Dauphin, and Pelican Islands. The area is mostly privately owned but includes State and Federal lands.

Unit AL-3: Fort Morgan. 2.82 km (1.7 mi) of shoreline in Baldwin County.

This area includes Mobile Bay and Gulf of Mexico shorelines within Bon Secour National Wildlife Refuge, Fort Morgan Unit. This unit extends from the west side of the pier on the northwest point of the peninsula, following the shoreline southwest around the tip of the peninsula, then east to the terminus of the beach access road. The area is State-owned but is leased by the Federal Government.

Mississippi

Unit MS-1: Lakeshore through Bay St. Louis. 14.6 km (9.1 mi) of shoreline in Hancock County.

This unit extends from the north side of Bryan Bayou outlet and includes the shore of the Mississippi Sound following the shoreline northeast to the southeast side of the Bay Waveland Yacht Club. The shoreline of this unit is privately owned.

Unit MS-2: Henderson Point. 4.3 km (2.7 mi) of shoreline in Harrison County.

This unit extends from 0.2 km (0.13 mi) west of the intersection of 3rd Avenue and Front Street and includes the shore of the Mississippi Sound following the shoreline northeast to the west side of Pass Christian Harbor. The shoreline of this unit is privately owned.

Unit MS-3: Pass Christian. 10.6 km (6.6 mi) of shoreline in Harrison County.

This unit extends from the east side of Pass Christian Harbor and includes the shore of the Mississippi Sound following the shoreline northeast to the west side of Long Beach Pier and Harbor. The shoreline of this unit is privately owned.

Unit MS-4: Long Beach. 4.4 km (2.7 mi) of shoreline in Harrison County.

This unit extends from the east side of Long Beach Pier and Harbor and includes the shore of the Mississippi Sound following the shoreline northeast to the west side of Gulfport Harbor. The shoreline of this unit is privately owned.

Unit MS-5: Gulfport. 4.3 km (2.7 mi) of shoreline in Harrison County.

This unit extends from the east side of Gulfport Harbor and includes the shore of the Mississippi Sound following the shoreline northeast to the west side of the groin at the southern terminus of Courthouse Road, Mississippi City, MS. The shoreline of this unit is privately owned.

Unit MS-6: Mississippi City. 8.1 km (5.0 mi) of shoreline in Harrison County.

This unit extends from the east side of the groin at the southern terminus of Courthouse Road, Mississippi City, MS, and includes the shore of the Mississippi Sound following the shoreline northeast to the west side of President Casino. The shoreline of this unit is privately owned.

Unit MS-7: Beauvoir. 0.6 km (0.4 mi) of shoreline in Harrison County.

This unit extends from the east side of President Casino Broadwater and includes the shore of the Mississippi Sound following the shoreline eastward to the west side of Treasure Bay Casino Resort. The shoreline of this unit is privately owned.

Unit MS-8: Biloxi West. 5.9 km (3.7 mi) of shoreline in Harrison County.

This unit extends from the east side of Treasure Bay Casino Resort and includes the shore of the Mississippi Sound following the shoreline east to the intersection of Interstate 110 and U.S. 90. The shoreline of this unit is privately owned.

Unit MS-9: Biloxi East. 1.5 km (0.9 mi) of shoreline in Harrison County.

This unit extends from the east side of Biloxi Harbor and includes the shore of the Mississippi Sound following the shoreline east to 0.1 km west of the intersection of Oak Street and Beach Boulevard. The shoreline of this unit is privately owned.

Unit MS-10: Ocean Springs West. 1.9 km (1.2 mi) of shoreline in Jackson County.

This unit extends from U.S. 90 and includes the shore of Biloxi Bay following the shoreline southeast to the Ocean Springs Harbor inlet The shoreline of this unit is privately owned.

Unit MS-11: Ocean Springs East. 2.6 km (1.6 mi) of shoreline in Jackson County.

This unit extends from Weeks Bayou and includes the shore of Biloxi Bay following the shoreline southeast to Halstead Bayou. The shoreline of this unit is privately owned.

Unit MS-12: Deer Island. 14.6 km (9.1 mi) of shoreline in Harrison County.

The entire unit is on Deer Island. This unit includes privately owned Mississippi Sound shoreline.

Unit MS-13: Round Island. 2.6 km (1.6 mi) of shoreline in Jackson County.

This unit includes privately owned Mississippi Sound shoreline.

Unit MS-14: Mississippi Barrier Islands. 130.5 km (81.1 mi) of shoreline in Harrison and Jackson Counties.

This unit includes shoreline of the Mississippi Sound and Gulf of Mexico on Cat, East and West Ship, Horn, Spoil and Petit Bois Islands. Approximately 39.9 km (24.8 mi) are privately owned, and 95.6 km (59.4 mi) are part of Gulf Islands National Seashore.

Unit MS-15: North and South Rigolets. 5.9 km (3.7 mi) of shoreline in Jackson County, MS, and Mobile County, AL.

This unit extends from the southwestern tip of South Rigolets Island and includes the shore of Point Aux Chenes Bay, the Mississippi Sound, and Grand Bay following the shoreline east around the western tip, then north to the South Rigolets Bayou; then from the southeastern corner of North Rigolets Island north to the northeastern most point of the island. Approximately 4.3 km (2.7 mi) are in Mississippi and 1.6 km (1.0 mi) are in AL. Almost half the Mississippi shoreline length is in the Grand Bay National Wildlife Refuge.

Louisiana

Unit LA-1: Texas/Louisiana border to eastern Vermilion Parish line.186.9 km (116.1 mi) of shoreline in Cameron and Vermilion Parishes.

This unit extends from the Texas/Louisiana border and includes the shore of the Gulf of Mexico following the shoreline east to the eastern Vermilion Parish line. Approximately 144.8 km (90.0 mi) are privately owned, and 50.7 km (31.5 mi) are part of the State-owned Rockefeller Wildlife Refuge and Cheniere au' Tigre.

Unit LA-2: Wax Lake Outlet and Atchafalaya River Deltas. 35,178 ha (86,927 ac) in St. Mary Parish, LA.

Approximately 78 percent of this unit is part of the State-owned Atchafalaya Delta Wildlife Management Area, with the rest in private ownership. This unit contains various habitats including open water, mudflat, marsh, scrub-shrub, and forest. However, it only contains approximately 1,728 hectares (4,270 acres) with the primary constituent elements for wintering piping plovers.

Unit LA-3: Point Au Fer Island. 36.7 km (22.8 mi) of shoreline in Terrebonne Parish.

This unit extends from the small island at the northwest tip of Point Au Fer Island, follows the shoreline of Point Au Fer Island southeast, and includes the shore of the Gulf of Mexico following the shoreline southeast to the western side of East Bay Junop. This entire unit is privately owned.

Unit LA-4: Isles Dernieres. 60.7 km (37.7 mi) of shoreline in Terrebonne Parish.

This unit comprises Caillou Bay, Lake Pelto, and Gulf of Mexico shoreline on the State-owned Isles Dernieres chain.

Unit LA-5: Timbalier Islands to Grand Terre Islands. 134.1 km (83.3 mi) of shoreline in Lafourche, Jefferson, and Plaquemines Parishes.

This unit includes 108.8 km (67.6 mi) of privately owned shoreline along West and East Timbalier Islands, from Belle Pass to Cheniere Caminada, Grand Isle, and Grand Terre Island; and 25.3 km (15.7 mi) of State-owned shoreline along West Timbalier, Grand Isle State Park, and Grand Terre Islands. Shoreline includes that of Caillou Bay, Lake Pelto, and the Gulf of Mexico.

Unit LA-6: Mississippi River Delta. 262,730 ha (649,220 ac) in Plaquemines Parish, LA.

This area contains various habitats including open water, mudflat, marsh, scrub-shrub, and forest. The federally owned Delta National Wildlife Refuge and State-owned Pass A Loutre Wildlife Management Area comprise 81 percent of this unit. However, it only contains approximately 1,728 hectares (4,270 acres) with the primary constituent elements for wintering piping plovers. The area with the primary constituent elements is approximately evenly divided among Federal, State, and private ownership.

Unit LA-7: Breton Islands and Chandeleur Island Chain. 132.9 km (82.6 mi) of shoreline in Plaquemines and St. Bernard Parishes, LA.

This unit includes shoreline of Breton Sound, Chandeleur Sound, and Gulf of Mexico on the Breton Islands and Chandeleur Island chain. A total of 100.4 km (62.4 mi) of shoreline are included in the Breton National Wildlife Refuge, and 32.5 km (20.2 mi) of shoreline is owned by the State.

Texas

Unit TX-1: South Bay and Boca Chica. 7,810 ha (9,575 ac) in Cameron County.

Approximately 3,875 ha (4,448 ac) of the unit are owned and managed by the Lower Rio Grande Valley National Wildlife Refuge. Approximately 1, 375 ha (3,398 ac) of the unit falls within the South Bay Coastal Preserve, leased by the Texas General Land Office (TGLO) to Texas Parks and Wildlife Department for management to protect this unique coastal area. In addition, the Texas Parks and Wildlife Department owns and manages 425 ha (1,050 ac) at Boca Chica State Park. The remaining 2,135 ha (5,275 ac) is privately owned and managed. Beaches within the unit reach from the mouth of the Rio Grande northward to Brazos Santiago Pass, south of South Padre Island. The unit includes areas from the Gulf of Mexico at the Rio Grande, west to near Loma de las Vacas, north to the Brownsville Ship Channel near Loma Ochoa, and east to the Gulf of Mexico along the Brownsville Ship Channel.

Unit TX-2: Queen Isabella Causeway. 37 ha (91 ac) in Cameron County.

The area extends along the Laguna Madre west of the city of South Padre Island and is privately owned.

Unit TX-3: Padre Island. 104,550 ha (258,339 ac) in Cameron, Willacy, Kenedy, and Kleberg Counties.

This unit is the largest in Texas. Approximately 45 percent (46,450 ha (114,776 ac)) of the unit is owned and managed by Padre Island National Seashore (PAIS). The TGLO owns and manages about 48 percent (48,900 ha (120,830 ac)), although boundaries between the State-owned lands and private lands are not always well demarcated. The remaining 9,200 ha (22,733 ac) is privately owned with a significant portion of that area being owned and managed by The Nature Conservancy on South Padre Island. The unit spans the breadth of the island from the north end of the City of South Padre Island to mile marker 30 on PAIS where the unit splits to include only bayside flats and beach. This unit probably harbors the single largest number of wintering piping plovers.

Unit TX-4: Lower Laguna Madre Mainland. 15,555 ha (38,436 ac) in Cameron and Willacy, Counties.

This unit constitutes important habitat when flats on Unit TX-3 are inundated. It is a unit with approximately 3,930 ha (9,711 ac) within the Laguna Atascosa National Wildlife Refuge. Approximately 3,855 ha (9,526 ac) is privately owned, with the remaining 7,770 ha (19,199 ac) owned and managed by the TGLO. The unit constitutes a system of mainland flats reaching from El Realito Peninsula to an area south of the City of Port Mansfield.

Unit TX-5: Upper Laguna Madre. 1,245 ha (3,076 ac) in Kleberg County.

This unit includes 170 hectares (420 acres) of PAIS and consists of a series of small flats along the bayside of Padre Island in the Upper Laguna Madre. The remainder of the area is privately owned with adjacent State-owned submerged lands. The unit stretches from just south of the northern boundary of PAIS to the Kleberg/Nueces County line and includes the area from just gulfward of the Gulf Intercoastal Waterway to uplands on Padre Island.

Unit TX-6: Mollie Beattie Coastal Habitat. 935 ha (2,310 ac) in Nueces County.

This unit is primarily composed of submerged land owned and managed by the TGLO. Much of the unit falls within two State tracts that have been designated under a Memorandum of Understanding between the U.S. Fish and Wildlife Service and the TGLO as an Adopt-a-Habitat site. The unit reaches from uplands on Mustang Island, near State Highway 361, to just gulfward of the Gulf Intercoastal Waterway, and from Packery Channel on the south to just north of Corpus Christi Pass on the north. Approximately 54 ha (133 ac) is owned by Nueces County. Approximately 117 ha (289 ac) of uplands are privately owned, and the remaining 764 ha (1,888 ac) are owned and managed by the TGLO.

Unit TX-7: Newport Pass/Corpus Christi Pass Beach. 200 ha (494 ac) in Nueces County.

This unit is along a stretch of Gulf beach approximately 8.5 km (5.3 mi) long. Approximately 5.75 km (3.6 mi) are managed by the Texas Parks and Wildlife Department as part of Mustang Island State Park. The remaining 2.75 km (1.7 mi) are leased from the TGLO by Nueces County. The unit stretches from near the entrance of Zahn Road onto the beach to Fish Pass to the north.

Unit TX-8: Mustang Island Beach. 19.5 km (12.1 mi) in Nueces County.

This is a stretch of Gulf beach between Fish Pass in Mustang Island State Park to the City of Port Arnasas, TX. Approximately 2.5 km (1.5 mi) fall within the State Park, and the remaining 17 km (10.6 mi) are managed by Port Aransas and Nueces County.

Unit TX-9: Fish Pass Lagoons. 175 ha (432 ac) in Nueces County.

This unit is a system of interior lagoons on Mustang Island, within Mustang Island State Park. This system of lagoons falls along either side of Fish Pass and runs northeast to southwest along an axis parallel to the main axis of Mustang Island. The unit encompasses flats approximately 1.0 km (0.6 mi) either side of Fish Pass.

Unit TX-10: Shamrock Island and Adjacent Mustang Island Flats. 880 ha (2,174 ac) in Nueces County.

This unit is made up of privately owned land and adjacent State-owned submerged lands. The Nature Conservancy is the primary private landowner in the unit. The unit encompasses Shamrock Island and includes property gulfward to the entrance of Wilson's Cut, then southwest approximately 3.5 km (2.2 mi). It also includes flats along the margin of lagoons interior to Mustang Island, but adjacent and parallel to Corpus Christi Bay.

Unit TX-11: Blind Oso. 31 ha (77 ac) in Nueces County.

This unit occurs on flats of Oso Bay, from Hans and Pat Suter Wildlife Refuge (owned and managed by the City of Corpus Christi) northeast to Corpus Christi Bay and then southeast along the edge of Texas A&M University—Corpus Christi. The entire unit falls within State-owned submerged lands, but is bordered on all sides by private property.

Unit TX-12: Adjacent to Naval Air Station-Corpus Christi. 88 ha (217 ac) in Nueces County.

This unit also occurs within Oso Bay on flats bordered by Naval Air Station-Corpus Christ on the east. This unit consists of flats near the entrance of Oso Bay to Corpus Christi Bay. The unit occurs within State-owned submerged lands, but is bordered by Federal lands owned and managed by the U.S. Navy.

Unit TX-13: Sunset Lake. 370 ha (914 ac) in San Patricio County.

This unit is owned and managed by the City of Portland within a system of city parks. Some of the described area falls within the jurisdiction of the TGLO. It includes two city park units referred to as Indian Point and Sunset Lake. Much of the unit is a recent acquisition by the city, and management considerations for the park include the area's importance as a site for wintering and resident shorebirds. The area is bordered on the northwest by State Highway 181 and on the southeast by Corpus Christi Bay. To the north, the unit is bordered by the City of Portland and includes the remainder of the peninsula, which follows along State Highway 181.

Unit TX-14: East Flats. 520 ha (1,284 ac) in Nueces County.

About 240 ha (593 ac) of the west end of this unit falls within State-owned (TGLO) submerged lands. The remainder of the unit is privately owned. It is bordered on the north by dredge placement areas bordering the Corpus Christi Ship Channel, on the west by Corpus Christi Bay, and on the east by the City of Port Aransas. It is bisected by a navigation channel.

Unit TX-15: North Pass. 710 ha (1,754 ac) in Aransas County.

This unit is a washover system, primarily on the privately owned San Jose Island. The unit is bordered on the west by Aransas Bay, just south of Mud Island, and it abuts the beach unit TX-16 to the east. The unit borders TX-16 for approximately 2.0 km (1.2 mi) and stretches landward (to the north and west) to Aransas Bay.

Unit TX-16: San Jose Beach. 32.0 km (19.9 mi) of shoreline in Aransas County.

This unit occupies a stretch of beach on the privately owned island of San Jose. The unit stretches from the jetties on the south end of San Jose Island, just north of Port Aransas, to Cedar Bayou, where San Jose Island is adjacent to Matagorda Island.

Unit TX-17: Allyn's Bight. 109 ha (269 ac) in Aransas County.

This unit is adjacent to and bordered on the east by San Jose Island. It occurs south of a section of the San Jose Island shoreline known as Allyn's Bight, at the northeast end of Mud Island along the east margin of Aransas Bay.

Unit TX-18: Cedar Bayou/Vinson Slough. 3,645 ha (9,007 ac) in Aransas County.

This unit abuts unit TX-17 on San Jose Island and unit TX-19 on Matagorda Island. It includes the highly dynamic area of Cedar Bayou, the pass that separates San Jose Island and Matagorda Island. This area includes a small section of Matagorda Island National Wildlife Refuge (approximately 43 ha (106 acres)) with much of the remaining 3,602 ha (8,154 ac) occurring on the privately owned island of San Jose. The unit is a band adjacent to Aransas Bay, averaging approximately 3.0 km (1.9 mi) wide and stretching from Cedar Bayou to a point about 4.0 km (2.5 mi) south of Long Reef.

Unit TX-19: Matagorda Island Beach. 69.0 km (43.0 mi) of shoreline in Calhoun County.

This stretch of beach on Matagorda Island extends from Cedar Bayou on the southwest (where it abuts TX-18), to Pass Cavallo on the northeast. The unit falls entirely within the boundary of the Matagorda Island National Wildlife Refuge.

Unit TX-20: Ayres Point. 590 hectares (1,458 acres) in Calhoun County.

This unit includes marsh and flats at Ayres Point on Matagorda Island National Wildlife Refuge. The unit is on Ayres Point between Shell Reef Bayou and Big Brundrett Lake.

Unit TX-21: Panther Point to Pringle Lake. 2,629 ha (6,496 ac) in Calhoun County.

This unit represents a narrow band of habitats about 1.0 km (0.6 mi) wide that stretches from Panther Point to the northwest end of Pringle Lake. The unit is entirely within Matagorda Island National Wildlife Refuge.

Unit TX-22: Decros Point. 905 ha (2,236 ac) at the Matagorda/Calhoun County line.

This unit includes about 7.0 km (4.3 mi) of Gulf beach habitat along the tip of Matagorda Peninsula southwest of the Matagorda Ship Channel. The adjacent upland is privately owned.

Unit TX-23: West Matagorda Peninsula Beach. 40.0 km (24.8 mi) of shoreline in Matagorda County.

This unit extends from the jetties at the Matagorda Ship Channel to the old Colorado River channel. This beach is along private lands.

Unit TX-24: West Matagorda Bay/Western Peninsula Flats. 1,165 ha (2,879 ac) in Matagorda County.

This unit is a series of flats, exposed at low tide, along the bayside of Matagorda Peninsula on the margin of West Matagorda Bay. The peninsula is privately owned, and this unit is one of two bayside flats that have been identified on the peninsula. This is the western-most of the two West Matagorda Bay units.

Unit TX-25: West Matagorda Bay/Eastern Peninsula Flats 430 ha (1,062 ac) in Matagorda County.

This unit is the eastern-most of two units on the bayside of West Matagorda Bay along Matagorda Peninsula. The peninsula along which this unit is located is privately owned.

Unit TX-26: Colorado River Diversion Delta. 455 ha (1,124 ac) in Matagorda County.

This unit consists of flats that have formed in the northeast corner of West Matagorda Bay where the Colorado River empties into the bay. It is State-owned.

Unit TX-27: East Matagorda Bay/Matagorda Peninsula Beach West. 22.0 km (13.7 mi) of shoreline in Matagorda County.

This unit is along Gulf beach on the Matagorda Peninsula southeast of East Matagorda Bay. It stretches from the old Colorado River channel northeast along the peninsula.

Unit TX-28: East Matagorda Bay/Matagorda Peninsula Beach East. 9.5 km (5.9 mi) of shoreline in Matagorda County.

This unit runs along the Gulf beach on the northeast end of Matagorda Peninsula from southeast of Brown Cedar Cut to a point on the beach southeast of Carancahua Bend. It is a beach adjacent to private land.

Unit TX-29: Brown Cedar Cut. 270 ha (667 ac) in Matagorda County.

This is a unit on the bayside of Matagorda Peninsula in East Matagorda Bay. It occurs along privately owned land. It encompasses the flats associated with Brown Cedar Cut and abuts unit TX-28 to the southeast.

Unit TX-30: Northeast Corner East Matagorda Bay. 245 ha (605 ac) in Matagorda County.

This is a unit in the northeast corner of East Matagorda Bay. It is a system of flats associated with tidal channels near the Intracoastal Waterway. It abuts unit TX-28 to the southeast.

Unit TX-31: San Bernard NWR Beach. 14.0 km (8.7 mi) of shoreline in Matagorda and Brazoria Counties.

This is a unit composed of Gulf beach, 8.0 km (5.0 mi) of which lies within San Bernard National Wildlife Refuge. The unit stretches from the mouth of the San Bernard River to a point along the beach approximately 14.0 km (8.7 mi) to the southwest.

Unit TX-32: Gulf Beach Between Brazos and San Bernard Rivers. 9.0 km (5.6 mi) of shoreline in Brazoria County.

This unit is a stretch of Gulf beach between the Brazos River and the San Bernard River.

Unit TX-33: Bryan Beach and Adjacent Beach. 6.0 km (3.7 mi) of shoreline in Brazoria County.

Part of this unit of Gulf beach lies within the Bryan Beach unit of the Peach Point Wildlife Management Area and is owned and managed by the Texas Parks and Wildlife Department.

Unit TX-34: San Luis Pass. 6.0 km (3.7 mi) of shoreline near the Brazoria/Galveston County line.

This unit is associated with the floodtide delta at San Luis Pass and includes Gulf beach and extensive sand flats associated with the pass. Approximately 57 percent of the unit includes flats in the floodtide delta, which are State-owned and managed by the TGLO. Much of the remainder of the unit is owned by the TGLO, but managed by local government. The unit includes the floodtide delta northwest of the causeway, as well as a 6.0-km (3.7-mi) stretch of beach starting at the causeway and running northeast along the Gulf.

Unit TX-35: Big Reef. 3.0 km (1.9 mi) of shoreline in Galveston County.

This unit is on the southwest side of Bolivar Roads, on the north end of the City of Galveston. It is made up of approximately 85 ha (210 ac) of beach along the inlet and associated sand flats. The area is currently managed by the City of Galveston, and much of the site is under a conservation agreement to further protection of the resources at the site.

Unit TX-36: Bolivar Flats. 670 ha (1,655 ac) in Galveston County.

This unit of flats was formed by accretion behind the jetties at Bolivar Roads near the tip of Bolivar Peninsula. The unit stretches from the jetties on the southwest to a point on the Gulf beach just north of Beacon Bayou. It includes almost 5.0 km of Gulf shoreline. The area is leased from TGLO by Houston Audubon Society and managed for its important avian resources. This unit also includes one of two Western Hemisphere Shorebird Reserve Network sites in Texas.

Unit TX-37: Rollover Pass. 290 ha (717 ac) in Galveston County.

This unit is on the bayside of Rollover Bay on Bolivar Peninsula. It includes flats on State-owned land managed by the TGLO.

Effects of Critical Habitat Designation

Section 7(a)(2) of the Act requires Federal agencies, including the Service, to ensure that actions they fund, authorize, or carry out do not destroy or adversely modify critical habitat to the extent that the action appreciably diminishes the value of the critical habitat for the survival and recovery of the species. When multiple units of critical habitat are designated, each unit may serve as the basis of a jeopardy analysis if protection of different facets of the species' life cycle or its distribution are essential to the species as a whole for both its survival and recovery. Individuals, organizations, States, local governments, and other non-Federal entities are affected by the designation of critical habitat only if their actions occur on Federal lands, require a Federal permit, license, or other authorization, or involve Federal funding.

Section 7(a) of the Act requires Federal agencies to evaluate their actions with respect to any species that is proposed or listed as endangered or threatened and with respect to its critical habitat, if any is designated or proposed. Regulations implementing this interagency cooperation provision of the Act are codified at 50 CFR part 402. Section 7(a)(4) requires Federal agencies to confer with us on any action that is likely to jeopardize the continued existence of a proposed species or result in destruction or adverse modification of proposed critical habitat. Conference reports provide conservation recommendations to assist the agency in eliminating conflicts that may be caused by the proposed action. The conservation recommendations in a conference report are advisory.

We may issue a formal conference report if requested by a Federal agency. Formal conference reports on proposed critical habitat contain a biological opinion that is prepared according to 50 CFR 402.14, as if critical habitat were designated. We may adopt the formal conference report as a biological opinion if the critical habitat is designated, if no significant new information or changes in the action alter the content of the opinion (see 50 CFR 402.10(d)).

If a species is listed or critical habitat is designated, section 7(a)(2) requires Federal agencies to ensure that activities they authorize, fund, or carry out are not likely to jeopardize the continued existence of such a species or to destroy or adversely modify its critical habitat. If a Federal action may affect a listed species or its critical habitat, the responsible Federal agency must enter into consultation with us. Through this consultation, we would advise the agencies whether the permitted actions would likely jeopardize the continued existence of the species or adversely modify critical habitat.

When we issue a biological opinion concluding that a project is likely to result in the destruction or adverse modification of critical habitat, we also provide reasonable and prudent alternatives to the project, if any are identifiable. Reasonable and prudent alternatives are defined at 50 CFR 402.02 as alternative actions identified during consultation that can be implemented in a manner consistent with the intended purpose of the action, that are consistent with the scope of the Federal agency's legal authority and jurisdiction, that are economically and technologically feasible, and that the Service believes would avoid the likelihood of jeopardizing the continued existence of listed species or resulting in the destruction or adverse modification of critical habitat. Reasonable and prudent alternatives can vary from slight project modifications to extensive redesign or relocation of the project. Costs associated with implementing a reasonable and prudent alternative are similarly variable.

Regulations at 50 CFR 402.16 require Federal agencies to reinitiate consultation on previously reviewed actions in instances where critical habitat is subsequently designated and the Federal agency has retained discretionary involvement or control over the action or such discretionary involvement or control is authorized by law. Consequently, some Federal agencies may request reinitiation of consultation or conferencing with us on actions for which formal consultation has been completed, if those actions may affect designated critical habitat or adversely modify or destroy proposed critical habitat.

Activities on private or State lands requiring a permit from a Federal agency, such as a permit from the U.S. Army Corps of Engineers (USACE) under section 404 of the Clean Water Act or a section 10(a)(1)(B) permit from the Service, or some other Federal action, including funding (e.g., from the Federal Highway Administration (FHA), Environmental Protection Agency (EPA), or Federal Emergency Management Agency (FEMA)), will also be subject to the section 7 consultation process. Federal actions not affecting listed species or critical habitat, and actions on non-Federal lands that are not federally funded, authorized, or permitted do not require section 7 consultation.

Section 4(b)(8) of the Act requires us to briefly evaluate and describe in any proposed or final regulation that designates critical habitat those activities involving a Federal action that may destroy or adversely modify such habitat, or that may be affected by such designation. Activities that may destroy or adversely modify critical habitat include those that alter the primary constituent elements to an extent that the value of critical habitat for both the survival and recovery of the wintering piping plover is appreciably reduced. We note that such activities may also jeopardize the continued existence of the species.

Federal activities that have undergone previous section 7 consultation on the effects of the action on wintering piping plover habitat are listed below. The action agencies involved in these consultations have included the USACE, U.S. Coast Guard, and other Department of Defense agencies, National Park Service, FHA, Minerals Management Service, Bureau of Land Management, Federal Energy Regulatory Commission, and others.

(1) Dredging and dredge spoil placement;

(2) Seismic exploration;

(3) Construction and installation of facilities, pipelines, and roads associated with oil and gas development;

(4) Oil and other hazardous material spills and cleanup;

(5) Construction of dwellings, roads, marinas, and other structures, and associated activities including staging of equipment and materials;

(6) Beach nourishment, cleaning, and stabilization (e.g., construction and maintenance of jetties and groins, planting of vegetation, and placement of dune fences);

(7) Certain types and levels of recreational activities, such as vehicular activity that impacts the substrate resulting in reduced prey or disturbance to the species;

(8) Stormwater and wastewater discharge from communities;

(9) Sale, exchange, or lease of Federal land that contains suitable habitat that may result in the habitat being altered or degraded;

(10) Marsh and coastal restoration, particularly restoration of barrier islands and other barrier shorelines;

(11) Military missions; and

(12) Bridge or culvert construction, reconstruction, and stabilization.

With the designation of critical habitat for wintering piping plovers, we would notify the USACE, other permitting agencies, and the public that Clean Water Act section 404 nationwide permits and other authorizations for activities within these designated critical habitat areas must comply with section 7 consultation requirements. For each section 7 consultation, we already review the direct and indirect effects of the proposed projects on piping plovers, and will continue to do so for critical habitat if it is designated.

Activities that may destroy or adversely modify critical habitat are those that alter the primary constituent elements (defined above) to an extent that the value of critical habitat for both the survival and recovery of the piping plover is appreciably reduced. These activities may destroy or adversely modify critical habitat by:

(1) Significantly and detrimentally altering the hydrology of tidal flats;

(2) Significantly and detrimentally altering inputs of sediment and nutrients necessary for the maintenance of geomorphic and biologic processes that insure appropriately configured and productive systems;

(3) Introducing significant amounts of emergent vegetation (either through actions such as marsh restoration on naturally unvegetated sites, or through changes in hydrology such as severe rutting or changes in storm or wastewater discharges);

(4) Significantly and detrimentally altering the topography of a site (such alteration may affect the hydrology of an area or may render an area unsuitable for roosting);

(5) Reducing the value of a site by significantly disturbing plovers from activities such as foraging and roosting (sources of such disturbance may include elevated levels of human presence);

(6) Significantly and detrimentally altering water quality, which may lead to decreased diversity or productivity of prey organisms or may have direct detrimental effects on piping plovers (as in the case of an oil spill); and

(7) Impeding natural processes that create and maintain washover passes and sparsely vegetated intertidal feeding habitats.

Requests for copies of the regulations on listed wildlife and inquiries about prohibitions and permits may be addressed to the U.S. Fish and Wildlife Service, P.O. Box 1306, Albuquerque, New Mexico 87103-1306. If you have questions regarding whether specific activities will constitute adverse modification of critical habitat, the following Fish and Wildlife Service personnel may be contacted:

Alabama: Darren LeBlanc (334/441-5181)

Florida: Patty Kelly (850/769-0552, extension 228)

Georgia: Robert Brooks (912/265-9336, extension 25)

Louisiana: Debbie Fuller (337/291-3124)

Mississippi: Linda LaClaire (601/321-1126)

North Carolina: Kevin Moody (919/856-4520, extension 19)

South Carolina: Paula Sisson (843/727-4707, extension 18)

Texas: Lee Elliott (361/994-9005, extension 227)

Relationship to Incidental Take Permits Issued Under Section 10

Section 10(a) of the Act authorizes us to issue permits for the taking of listed species incidental to otherwise lawful activities. Incidental take permit applications must be supported by a habitat conservation plan (HCP) that identifies conservation measures that the permittee agrees to implement for the species to minimize and mitigate the impacts of the requested incidental take. Currently, no approved HCPs cover the wintering plover or its habitat.

In the event that HCPs covering the wintering piping plover are developed in the future within the proposed critical habitat, we will work with applicants to ensure the HCPs provide for protection and management of habitat areas essential for the conservation of the piping plover, while directing development and habitat modification to nonessential areas of lower habitat value. The HCP development process provides an opportunity for more intensive data collection and analysis regarding the use of particular habitat areas by the piping plover. The process also enables us to conduct detailed evaluations of the importance of such lands to the long-term survival of the species. We fully expect that HCPs undertaken by local jurisdictions (e.g., townships, counties) and other parties will identify, protect, and provide appropriate economic impacts of designating these areas as critical habitat prior to a final determination. When completed, we will announce the availability of the draft economic analysis with a notice in the Federal Register, and we will open a 30-day comment period at that time.

American Indian Tribal Rights, Federal—Tribal Trust Responsibilities, and the Endangered Species Act

In accordance with the Presidential Memorandum of April 29, 1994, we are required to assess the effects of critical habitat designation on tribal lands and tribal trust resources. No tribal lands are proposed for designation as critical habitat, and no effects on tribal trust resources are anticipated if this proposal is made final.

Public Comments Solicited

We intend that any final action resulting from this proposal will be as accurate and as effective as possible. Therefore, we solicit comments or suggestions from the public, other concerned governmental agencies, Native American Tribes, the scientific community, industry, or any other interested party concerning this proposed rule. We particularly seek comments concerning:

1. The reasons why any habitat should or should not be determined to be critical habitat as provided by section 4 of the Act, including whether the benefits of designating areas as critical habitat will outweigh the benefits of excluding areas from the designation;

2. Specific information on the numbers and distribution of wintering piping plovers and what habitat is essential to the conservation of the species and why;

3. Information on specific characteristics of habitats essential to the conservation of the piping plover on its wintering grounds;

4. Land use practices and current or planned activities in the subject areas and their possible impacts on proposed critical habitat;

5. Any foreseeable economic or other impacts resulting from the proposed designation of critical habitat—in particular, any impacts on small entities or families; and,

6. Economic and other values associated with designating critical habitat for the wintering population of piping plover, such as those derived from nonconsumptive uses (e.g., hiking, camping, birdwatching, enhanced watershed protection, improved air quality, and “existence values”).

Additionally, we are seeking comments on critical habitat designation relative to future HCPs. Future conservation planning efforts may occur within the range of the piping plover in areas we are proposing as critical habitat. We invite comments on the appropriateness of the following alternative approaches we are considering regarding critical habitat designations within the boundaries of future approved HCPs upon issuance of section 10(a)(1)(B) permits for the piping plover.

(1) Retain critical habitat designation within the HCP boundaries and use the section 7 consultation process on the issuance of the incidental take permit to ensure that any take we authorize will not destroy or adversely modify critical habitat;

(2) Revise the critical habitat designation upon approval of the HCP and issuance of the section 10(a)(1)(B) permit to retain only preserve areas, on the premise that they encompass areas essential for the conservation of the species within the HCP area and require special management and protection in the future. Assuming that we conclude, at the time an HCP is approved and the associated incidental take permit is issued, that the plan protects those areas essential to the conservation of the piping plover, we would revise the critical habitat designation to exclude areas outside the reserves, preserves, or other conservation lands established under the plan. Consistent with our listing program priorities, we would publish a proposed rule in the Federal Register to revise the critical habitat boundaries;

(3) As in (2) above, retain only preserve lands within the critical habitat designation, on the premise that they encompass areas essential for conservation of the species within the HCP area and require special management and protection in the future. However, under this approach, the exclusion of areas outside the preserve lands from critical habitat would occur automatically upon issuance of the incidental take permit. The public would be notified and have the opportunity to comment on the boundaries of the preserve lands and the revision of designated critical habitat during the public review and comment process for HCP approval and permitting;

(4) Remove designated critical habitat entirely from within the boundaries of an HCP when the plan is approved (including preserve lands), on the premise that the HCP establishes long-term commitments to conserve the species and no further special management or protection is required. Consistent with our listing program priorities, we would publish a proposed rule in the Federal Register to revise the critical habitat boundaries; or

(5) Remove designated critical habitat entirely from within the boundaries of HCPs when the plans are approved (including preserve lands), on the premise that the HCP establishes long-term commitments to conserve the species and no additional special management or protection is required. This exclusion from critical habitat would occur automatically upon issuance of the incidental take permit. The public would be notified and have the opportunity to comment on the revision of designated critical habitat during the public notification process for HCP approval and permitting.

Our practice is to make comments we receive on this rulemaking, including names and home addresses of respondents, available for public review during regular business hours. Individual respondents may request that we withhold their home address from the rulemaking record, which we will honor to the extent allowable by law. There also may be circumstances in which we would withhold from the rulemaking a respondent's identity, as allowable by law. If you wish for us to withhold your name and/or address, you must state this request prominently at the beginning of your comments. However, we will not consider anonymous comments. We will make all submissions from organizations or businesses, and from individuals identifying themselves as representatives or officials of organizations or businesses, available for public inspection in their entirety.

Peer Review

In accordance with our policy published on July 1, 1994 (59 FR 34270), we will seek the expert opinions of at least three appropriate and independent specialists regarding this proposed rule. The purpose of such review is to ensure listing decisions are based on scientifically sound data, assumptions, and analyses. We will send these peer reviewers copies of this proposed rule immediately following publication in the Federal Register. We will invite these peer reviewers to comment, during the comment period, on the specific assumptions and conclusions regarding the proposed designation of critical habitat.

We will consider all comments and information received during the 60-day comment period on this proposed rule during preparation of a final rulemaking. Accordingly, the final decision may differ from this proposal.

Clarity of the Rule

Executive Order 12866 requires each agency to write regulations/notices that are easy to understand. We invite your comments on how to make this proposed rule easier to understand including answers to questions such as the following: (1) Are the requirements in the proposed rule clearly stated? (2) Does the proposed rule contain technical language or jargon that interferes with the clarity? (3) Does the format of the proposed rule (grouping and order of sections, use of headings, paragraphing, etc.) aid or reduce its clarity? (4) Is the description of the proposed rule in the “Supplementary Information” section of the preamble helpful in understanding the proposed rule? (5) What else could we do to make the proposed rule easier to understand?

Send a copy of any comments that concern how we could make this proposed rule easier to understand to: Office of Regulatory Affairs, Department of the Interior, Room 7229, 1849 C Street, NW, Washington, DC 20240. You may e-mail your comments to this address: Execsec@ios.doi.gov.

Public Hearings

The Act provides for one or more public hearings on this proposal, if requested. Given the large geographic extent covered by this proposal, the high likelihood of multiple requests, and the need to publish a final determination by September 30, 2000, we have scheduled nine public hearings at the following addresses on the dates indicated.

1. Wilmington, North Carolina, on July 17, 2000, Roland-Brise Middle School, 4412 Lake Avenue.

2. Savannah, Georgia, on July 19, 2000, at Savannah Technical Institute, 5717 White Bluff Road.

3. Tallahassee, Florida, on July 21, 2000, at Dale Mabry Conference Center (Tallahassee Airport), 3300 Capital Circle Southwest, Suite 1.

4. Fort Myers, Florida, on July 24, 2000, at Fort Myers Convention Complex, 1375 Monroe Street.

5. Mobile, Alabama, on July 26, 2000, at Ramada Plaza Hotel and Conference Center, 600 South Beltline Highway.

6. Baton Rouge, Louisiana, on July 27, 2000, at The Pennington Center, 6400 Perkins Road.

7. Galveston, Texas, on July 31, 2000, at Texas A & M University at Galveston, 200 Seawolf Parkway, Pelican Island Campus Auditorium—Building 3007.

8. Corpus Christi, Texas, on August 2, 2000, at Texas A & M University at Corpus Christi, Student Center Ballroom, 6300 Ocean Drive.

9. McAllen, Texas, on August 4, 2000, at McAllen Civic Center Auditorium, 1300 10th Street.

Written comments submitted during the comment period receive equal consideration with those comments presented at a public hearing.

Required Determinations

Regulatory Planning and Review

In accordance with the criteria in Executive Order 12866, this rule is a significant regulatory action and has been reviewed by the Office of Management and Budget (OMB).

(a) This rule will not have an annual economic effect of $100 million or more, or adversely affect an economic sector, productivity, jobs, the environment, or other units of government.

(b) This rule will not create inconsistencies with other agencies' actions. Federal agencies have been required to ensure that their actions do not jeopardize the continued existence of the piping plover since listing in 1985. As shown in Table 3 (below), no additional effects on agency actions are anticipated to result from critical habitat designation. Because of the potential for impacts on other Federal agency actions, we will continue to review this proposed action for any inconsistencies with other Federal agency actions.

Categories of activities | Activities potentially affected by species listing only ¹ | Additional activities potentially affected by critical habitat designation ²
Federal activities potentially affected ³ | Activities such as removing or destroying piping plover wintering habitat, whether by mechanical, chemical, or other means (e.g., construction, road building, dredging and other navigation projects, boat launch and marina construction or maintenance, beach nourishment, erosion control); recreational activities that significantly deter the use of suitable habitat areas by piping plovers or alter habitat through associated maintenance activities; sale, exchange or lease of Federal land that contains suitable habitat that may result in the habitat being destroyed or appreciably degraded | None.
Private and other non-Federal activities potentially affected ⁴ | Activities such as removing or destroying piping plover habitat, whether by mechanical, chemical, or other means (e.g., construction, road building, dredging and other navigation projects, boat launch and marina construction or maintenance, beach nourishment, erosion control) and appreciably decreasing habitat value or quality (e.g., increased vehicular activity on sensitive habitats, increased predators, reduced water quality, modified hydrology) that require a Federal action (permit, authorization, or funding) | None.
¹ This column represents the activities potentially affected by listing the piping plover as a threatened species (December 11, 1985; 50 FR 50720) under the Endangered Species Act.
² This column represents the effects on activities resulting from critical habitat designation beyond the effects attributable to the listing of the species.
³ Activities initiated by a Federal agency.
⁴ Activities initiated by a private or other non-Federal entity that may need Federal authorization or funding.

(c) The proposed rule, if made final, will not significantly impact entitlements, grants, user fees, loan programs, or the rights and obligations of their recipients. Federal agencies are currently required to ensure that their activities do not jeopardize the continued existence of the species, and we do not anticipate that the adverse modification prohibition (resulting from critical habitat designation) will have any incremental effects.

(d) This rule will not raise novel legal or policy issues. The proposed rule follows the requirements for determining critical habitat contained in the Endangered Species Act.

Regulatory Flexibility Act (5 U.S.C. 601 et seq.)

In the economic analysis (under section 4 of the Act), we will determine whether designation of critical habitat will have a significant effect on a substantial number of small entities. As discussed under Regulatory Planning and Review above, this rule is not expected to result in any restrictions in addition to those currently in existence.

Small Business Regulatory Enforcement Fairness Act (5 U.S.C. 804(2))

In the economic analysis, we will determine whether designation of critical habitat will cause (a) any effect on the economy of $100 million or more, (b) any increases in costs or prices for consumers; individual industries; Federal, State, or local government agencies; or geographic regions, or (c) any significant adverse effects on competition, employment, investment, productivity, innovation, or the ability of U.S.-based enterprises to compete with foreign-based enterprises.

Unfunded Mandates Reform Act (2 U.S.C. 1501 et seq.)

In accordance with the Unfunded Mandates Reform Act (2 U.S.C. 1501 et seq.):

a. This rule will not “significantly or uniquely” affect small governments. A Small Government Agency Plan is not required. Small governments will be affected only to the extent that any programs involving Federal funds, permits, or other authorized activities must ensure that their actions will not adversely affect the critical habitat.

b. This rule will not produce a Federal mandate on State, local, or tribal governments or the private sector of $100 million or greater in any year, i.e., it is not a “significant regulatory action” under the Unfunded Mandates Reform Act. The designation of critical habitat imposes no obligations on State or local governments.

Takings

In accordance with Executive Order 12630, this rule does not have significant takings implications, and a takings implication assessment is not required. This proposed rule, if made final, will not “take” private property. The designation of critical habitat affects only Federal agency actions. Federal actions on private lands could be affected by critical habitat designation, however, we expect no regulatory effect from this designation since all proposed areas are considered occupied by the species and would be reviewed under both the jeopardy and adverse modification standards under section 7 of the Act.

The rule will not increase or decrease the current restrictions on private property concerning taking of the piping plover as defined in section 9 of the Act and its implementing regulations (50 FR 17.31). Additionally, critical habitat designation does not preclude development of habitat conservation plans and issuance of incidental take permits. Landowners in areas that are included in the designated critical habitat will continue to have opportunity to utilize their property in ways consistent with the survival of the piping plover.

Federalism

In accordance with Executive Order 13132, the rule does not have significant Federalism effects. A Federalism assessment is not required. In keeping with Department of the Interior and Department of Commerce policy, the Service requested information from and coordinated development of this critical habitat proposal with appropriate State resource agencies in North Carolina, South Carolina, Georgia, Florida, Alabama, Mississippi, Louisiana, and Texas. We will continue to coordinate any future designation of critical habitat for wintering piping plovers with the appropriate State agencies. The designation of critical habitat for the piping plover is not expected to result in any additional restrictions to those currently in place and, therefore, no incremental impact on State and local governments and their activities are expected. The designation may have some benefit to these governments in that the areas essential to the conservation of the species are more clearly defined, and the primary constituent elements of the habitat necessary to the survival of the species are specifically identified. While making this definition and identification does not alter where and what federally sponsored activities may occur, doing so may assist these local governments in long-range planning (rather than waiting for case-by-case section 7 consultations to occur).

Civil Justice Reform

In accordance with Executive Order 12988, the Department of the Interior's Office of the Solicitor determined that this rule does not unduly burden the judicial system and meets the requirements of sections 3(a) and 3(b)(2) of the Order. The Office of the Solicitor will review the final determination for this proposal. We will make every effort to ensure that the final determination contains no drafting errors, provides clear standards, simplifies procedures, reduces burden, and is clearly written such that litigation risk is minimized.

Paperwork Reduction Act of 1995 (44 U.S.C. 3501 et seq.)

This rule does not contain any information collection requirements for which Office of Management and Budget approval under the Paperwork Reduction Act is required.

National Environmental Policy Act

We have determined that we do not need to prepare an Environmental Assessment or an Environmental Impact Statement as defined by the National Environmental Policy Act of 1969 in connection with regulations adopted pursuant to section 4(a) of the Act. We published a notice outlining our reasons for this determination in the Federal Register on October 25, 1983 (48 FR 49244).

References Cited

A complete list of all references cited in this proposed rule is available upon request from the Corpus Christi Ecological Services Field Office (see ADDRESSES section).

Author: The primary author of this proposed rule is Lee Elliott (see ADDRESSES section).

List of Subjects in 50 CFR Part 17

Endangered and threatened species, Exports, Imports, Reporting and recordkeeping requirements, Transportation.

Proposed Regulation Promulgation

Accordingly, we propose to amend part 17, subchapter B of chapter I, title 50 of the Code of Federal Regulations as set forth below:

PART 17—[AMENDED]

1. The authority citation for part 17 continues to read as follows:

Authority: 16 U.S.C. 1361-1407; 16 U.S.C. 1531-1544; 16 U.S.C. 4201-4245; Pub. L. 99-625, 100 Stat. 3500; unless otherwise noted.

2. Amend § 17.11(h), by revising the entries for “Plover, piping” under “BIRDS” to read as follows:

§ 17.11 Endangered and threatened wildlife.

* * * * *

(h) * * *

Species: Common name | Species: Scientific name | Historic range | Vertebrate population where endangered or threatened | Status | When listed | Critical habitat | Special rules
* * * * * * *
Birds
* * * * * * *
Plover, piping | Charadrius melodus | U.S.A. (Great Lakes, northern Great Plains, Atlantic and Gulf coasts, PR, VI), Canada, Mexico, Bahamas, West Indies | Great Lakes, watershed in States of IL, IN, MI, MN, NY, OH, PA, and WI and Canada (Ont.) | E | 211 | 17.95(b) | NA
Do | ......do | ......do | Entire, except those areas where listed as endangered above | T | 211 | 17.95(b) | NA
* * * * * * *

3. Section § 17.95(b) is amended by adding critical habitat for the piping plover (Charadrius melodus) in the same alphabetical order as the species occurs in § 17.11(h) to read as follows:

§ 17.95 Critical habitat—fish and wildlife.

* * * * *

(b) Birds.

* * * * *

PIPING PLOVER (Charadrius melodus) Wintering Habitat

North Carolina

Projection: Universal Transverse Mercator, Zone 18.

Unit NC-1: Oregon Inlet.

This unit begins at UTM 451322 E, 3960070 N; thence to 451524 E, 3962634 N; to 454314 E, 3957376 N; to 453728 E, 3957048 N; to 452375 E, 3956783 N; to 449753 E, 3960026 N; to 449962 E, 3961442 N; to 450213 E, 3961972 N; to 451524 E, 3962634 N; and thence to point of beginning.

Unit NC-2: Cape Hatteras Point.

This unit begins at UTM 449759 E, 3898487 N; to 446066 E, 3899834 N; to 448394 E, 3899965 N; to 451219 E, 3899573 N; to 451899 E, 3900148 N; to 452317 E, 3901273 N; to 452893 E, 3902424 N; to 453494 E, 3902502 N; to 452422 E, 3896669 N; to 445988 E, 3898736 N; to 446066 E, 3899834 N; and thence to point of beginning.

Unit NC-3: Clam Shoals.

This unit begins at UTM 439959 E, 3906625 N; to 438429 E, 3905876 N; to 438429 E, 3907210 N; to 441489 E, 3907210 N; to 441489 E, 3905876 N; to 438429 E, 3905876 N; and thence to point of beginning.

Unit NC-4: Hatteras Inlet.

This unit begins at UTM 431685 E, 3895385 N; to 436885 E, 3895920 N; to 429801 E, 3892916 N; to 428187 E, 3892804 N; to 427649 E, 3895337 N; to 430519 E, 3896772 N; to 433702 E, 3896436 N; to 435832 E, 3897400 N; to 436885 E, 3895920 N; and thence to point of beginning.

Unit NC-5: Ocracoke Island.

This unit begins at UTM 410472 E, 3883720 N; to 413103 E, 3884856 N; to 408678 E, 3881291 N; to 408021 E, 3882226 N; to 408931 E, 3883541 N; to 412648 E, 3885615 N; to 413103 E, 3884856 N; and thence to point of beginning.

Unit NC-6: Portsmouth Island-Cape Lookout.

This unit begins at UTM 399950 E, 3877027 N; to 407108 E, 3880149 N; to 393159 E, 3869047 N; to 391260 E, 3871238 N; to 402580 E, 3883253 N; to 406415 E, 3881317 N; to 407108 E, 3880149 N; to 380912 E, 3859049 N; to 383021 E, 3861705 N; to 383324 E, 3861689 N; to 384154 E, 3860987 N; to 380661 E, 3857590 N; to 379959 E, 3856952 N; to 378348 E, 3855644 N; to 377630 E, 3856234 N; to 378061 E, 3857781 N; to 383021 E, 3861705 N; and thence to point of beginning.

Unit NC-7: South Core Banks.

This unit begins at UTM 359081 E, 3831186 N; to 358149 E, 3834204 N; to 358494 E, 3833735 N; to 358322 E, 3831980 N; to 360298 E, 3832944 N; to 361311 E, 3832178 N; to 359483 E, 3827063 N; to 358569 E, 3827187 N; to 356666 E, 3832771 N; to 357580 E, 3834402 N; to 358149 E, 3834204 N; and thence to point of beginning.

Unit NC-8: Shackleford Banks.

This unit begins at UTM 349056 E, 3839547 N; to 347178 E, 3840900 N; to 348834 E, 3840554 N; to 351230 E, 3839961 N; to 351057 E, 3837812 N; to 348488 E, 3838454 N; to 346857 E, 3839245 N; to 347178 E, 3840900 N; to 359535 E, 3834955 N; to 357679 E, 3835020 N; to 358618 E, 3836082 N; to 359680 E, 3836206 N; to 360199 E, 3836601 N; to 360990 E, 3836305 N; to 361361 E, 3834847 N; to 360397 E, 3833191 N; to 359656 E, 3832845 N; to 357679 E, 3835020 N; and thence to point of beginning.

Unit NC-9: Rachel Carson.

This unit begins at UTM 348538 E, 3842087 N; to 347179 E, 3843127 N; to 347530 E, 3842870 N; to 348126 E, 3842590 N; to 349050 E, 3842531 N; to 349611 E, 3842391 N; to 350897 E, 3842064 N; to 351388 E, 3842005 N; to 352136 E, 3841923 N; to 352171 E, 3841631 N; to 349938 E, 3840754 N; to 348033 E, 3841689 N; to 346314 E, 3841970 N; to 346115 E, 3842520 N; to 346501 E, 3842870 N; to 346899 E, 3842823 N; to 347179 E, 3843127 N; and thence to point of beginning.

Unit NC-10: Bogue Inlet.

This unit begins at UTM 307283 E, 3836342 N; to 308198 E, 3835429 N; to 307936 E, 3834962 N; to 306961 E, 3835535 N; to 306535 E, 3836256 N; to 306912 E, 3837116 N; to 307264 E, 3837420 N; to 307936 E, 3837387 N; to 307993 E, 3836338 N; to 307477 E, 3835953 N; to 307895 E, 3835781 N; to 308198 E, 3835429 N; to 305430 E, 3835386 N; to 305339 E, 3836215 N; to 305970 E, 3836027 N; to 306387 E, 3835314 N; to 305699 E, 3834568 N; to 304642 E, 3834322 N; to 304347 E, 3835183 N; to 305142 E, 3836141 N; to 305339 E, 3836215 N; and thence to point of beginning.

Unit NC-11: Topsail.

This unit begins at UTM 253206 E, 3801594 N; to 255487 E, 3804759 N; to 256758 E, 3803655 N; to 250472 E, 3797537 N; to 249068 E, 3798774 N; to 254551 E, 3804491 N; to 255487 E, 3804759 N; and thence to point of beginning.

Unit NC-12: Figure Eight Island.

This unit begins at UTM 244824 E, 3792914 N; to 245958 E, 3793023 N; to 245145 E, 3791715 N; to 244739 E, 3791397 N; to 244145 E, 3792625 N; to 243731 E, 3792934 N; to 243942 E, 3793658 N; to 245170 E, 3794097 N; to 245170 E, 3793446 N; to 245958 E, 3793023 N; and thence to point of beginning.

Unit NC-13: Masonboro.

This unit begins at UTM 240385 E, 3785897 N; to 240260 E, 3786769 N; to 241454 E, 3785773 N; to 241220 E, 3785436 N; to 240173 E, 3784735 N; to 239186 E, 3785220 N; to 239524 E, 3786042 N; to 240164 E, 3786804 N; to 240260 E, 3786769 N; and thence to point of beginning.

Unit NC-14: Carolina Beach Inlet.

This unit begins at UTM 235019 E, 3778673 N; to 235018 E, 3778663 N; to 235012 E, 3778664 N; to 235027 E, 3778695 N; to 235018 E, 3778663 N; to 235301 E, 3776207 N; to 235018 E, 3778663 N; to 237279 E, 3778281 N; to 234797 E, 3773059 N; to 233526 E, 3773503 N; to 235018 E, 3778663 N; and thence to point of beginning.

Unit NC-15: Ft. Fisher.

This unit begins at UTM 227863 E, 3758770 N; to 227285 E, 3761130 N; to 229414 E, 3761819 N; to 230360 E, 3760992 N; to 227660 E, 3754862 N; to 226595 E, 3754980 N; to 226241 E, 3758469 N; to 227108 E, 3760972 N; to 227285 E, 3761130 N; and thence to point of beginning.

Unit NC-16: Lockwood Folly Inlet.

This unit begins at UTM 201227 E, 3757688 N; to 200823 E, 3758337 N; to 201239 E, 3758381 N; to 201640 E, 3758186 N; to 201600 E, 3757375 N; to 201939 E, 3757163 N; to 201674 E, 3756882 N; to 201181 E, 3756801 N; to 200786 E, 3757822 N; to 200823, 3758337; and thence to point of beginning.

Unit NC-17: Shallotte Inlet.

This unit begins at UTM 188067 E, 3756365 N; to 189372 E, 3756093 N; to 188723 E, 3755719 N; to 188187 E, 3755686 N; to 186884 E, 3755740 N; to 186650 E, 3756057 N; to 186852 E, 3756550 N; to 187092 E, 3756825 N; to 186953 E, 3757172 N; to 187838 E, 3757864 N; to 188140 E, 3757846 N; to 189039 E,3757433 N; to 189299 E, 3757432 N; to 189372, 3756093; and thence to point of beginning.

Unit NC-18: Mad Inlet.

This unit begins at UTM 173982 E, 3752907 N; to 173058 E, 3751556 N; to 173369 E, 3752495 N; to 173196 E, 3752754 N; to 173918 E, 3754015 N; to 174269 E, 3754100 N; to 174687 E, 3753774 N; to 174209 E, 3753591 N; to 174236 E, 3753508 N; to 174310 E, 3753426 N; to 174390 E, 3753361 N; to 174461 E, 3753326 N; to 174567 E, 3753230 N; to 174615 E, 3753145 N; to 174661 E, 3752930 N; to 175098 E, 3752417 N; to 173232 E, 3751377 N; to 173058 E, 3751556 N; and thence to point of beginning.

South Carolina

Projection: Universal Transverse Mercator, Zone 17.

Unit SC-1: Waites Island-North.

This unit begins at UTM 725738 E, 3748074 N; to 725022 E, 3748965 N; to 725421 E, 3748836 N; to 726117 E, 3748976 N; to 726635 E, 3748663 N; to 727003 E, 3747708 N; to 724428 E, 3747665 N; to 725022 E, 3748965 N; and thence to point of beginning.

Unit SC-2: Waites Island-South.

This unit begins at UTM 722497 E, 3747416 N; to 721232 E, 3747433 N; to 721637 E, 3747989 N; to 721880 E, 3747881 N; to 722322 E, 3747864 N; to 722652 E, 3747692 N; to 723564 E, 3747800 N; to 723813 E, 3747125 N; to 722587 E, 3746682 N; to 721621 E, 3747319 N; to 721232 E, 3747433 N; and thence to point of beginning.

Unit SC-3: Murrells Inlet/Huntington Beach.

This unit begins at UTM 681799 E, 3710448 N; to 683405 E, 3711863 N; to 683253 E, 3711163 N; to 682806 E, 3710823 N; to 679622 E, 3707732 N; to 679339 E, 3707709 N; to 679152 E, 3707814 N; to 679058 E, 3707991 N; to 679434 E, 3708390 N; to 680068 E, 3709048 N; to 680162 E, 3709436 N; to 680985 E, 3710165 N; to 681360 E, 3710717 N; to 681642 E, 3711521 N; to 681630 E, 3711839 N; to 681726 E, 3712062 N; to 682322 E, 3712585 N; to 683405 E, 3711863 N; and thence to point of beginning.

Unit SC-4: Litchfield.

This unit begins at UTM 675774 E, 3702407 N; to 675960 E, 3701849 N; to 675445 E, 3702217 N; to 675154 E, 3702605 N; to 675351 E, 3702843 N; to 676292 E, 3702499 N; to 675960 E, 3701849 N; and thence to point of beginning.

Unit SC-5: North Inlet.

This unit begins at UTM 670679 E, 3688657 N; to 670915 E, 3690594 N; to 672045 E, 3690325 N; to 671452 E, 3688681 N; to 672078 E, 3688087 N; to 670848 E, 3686174 N; to 670109 E, 3686566 N; to 670366 E, 3687461 N; to 669975 E, 3687628 N; to 669784 E, 3688423 N; to 670422 E, 3689967 N; to 670915; to 3690594; and thence to point of beginning.

Unit SC-6: North Santee Bay Inlet.

This unit begins at UTM 666930 E, 3670041 N; to 668761 E, 3673337 N; to 670056 E, 3672854 N; to 669032 E, 3671114 N; to 664354 E, 3666957 N; to 663812 E, 3665816 N; to 662768 E, 3665817 N; to 662401 E, 3666184 N; to 662478 E, 3666725 N; to 663116 E, 3666938 N; to 663078 E, 3668543 N; to 663445 E, 3668852 N; to 664509 E, 3669992 N; to 665030 E, 3669702 N; to 665030 E, 3669122 N; to 668182 E, 3672003 N; to 668317 E, 3672622 N; to 668761 E, 3673337 N; and thence to point of beginning.

Unit SC-7: Cape Romain.

This unit begins at UTM 650426 E, 3654423 N; to 645739 E, 3653387 N; to 645917 E, 3654156 N; to 647750 E, 3654629 N; to 648164 E, 3654767 N; to 648755 E, 3655102 N; to 649249 E, 3655141 N; to 653349 E, 3655831 N; to 653999 E, 3655496 N; to 654098 E, 3655003 N; to 653309 E, 3652717 N; to 646705 E, 3652618 N; to 645917 E, 3652953 N; to 645739 E, 3653387 N; and thence to point of beginning.

Unit SC-8: Bull Island.

This unit begins at UTM 626370 E, 3638607 N; to 626279 E, 3636892 N; to 624156 E, 3637262 N; to 625149 E, 3638969 N; to 625592 E, 3639566 N; to 627499 E, 3639945 N; to 628203 E, 3639548 N; to 627209 E, 3637217 N; to 626279 E, 3636892 N; and thence to point of beginning.

Unit SC-9: Stono Inlet.

This unit begins at UTM 593829 E, 3610109 N; to 590512 E, 3607811 N; to 590410 E, 3609637 N; to 591273 E, 3610365 N; to 592474 E, 3611430 N; to 594249 E, 3610889 N; to 595433 E, 3612022 N; to 597022 E, 3610517 N; to 594672 E, 3607659 N; to 590512 E, 3607811 N; and thence to point of beginning.

Unit SC-10: Seabrook Island.

This unit begins at UTM 580527 E, 3604821 N; to 581526 E, 3606226 N; to 582236 E, 3605504 N; to 579177 E, 3603020 N; to 578773 E, 3603510 N; to 579201 E, 3603926 N; to 579299 E, 3604415 N; to 579483 E, 3604684 N; to 580229 E, 3605259 N; to 581526 E, 3606226 N; and thence to point of beginning.

Unit SC-11: Deveaux Bank.

This unit begins at UTM 577409 E, 3600595 N; to 576108 E, 3599702 N; to 576042 E, 3601895 N; to 576770 E, 3602567 N; to 578378 E, 3601678 N; to 579011 E, 3599768 N; to 576108 E, 3599702 N; and thence to point of beginning.

Unit SC-12: Otter Island.

This unit begins at UTM 556003 E, 3593013 N; to 555060 E, 3593335 N; to 555155 E, 3593186 N; to 557068 E, 3593749 N; to 557136 E, 3593960 N; to 556993 E, 3594319 N; to 557102 E, 3594624 N; to 557265 E, 3594787 N; to 558059 E, 3594319 N; to 557869 E, 3593295 N; to 557516 E, 3592847 N; to 555481 E, 3592223 N; to 554999 E, 3592209 N; to 554599 E, 3592399 N; to 554368 E, 3592745 N; to 554355 E, 3593132 N; to 555060 E, 3593335 N; and thence to point of beginning.

Unit SC-13: Harbor Island.

This unit begins at UTM 553844 E, 3585199 N; to 553825 E, 3585982 N; to 554466 E, 3585472 N; to 554384 E, 3584628 N; to 553210 E, 3584195 N; to 553249 E, 3585220 N; to 553825 E, 3585982 N; and thence to point of beginning.

Unit SC-14: Caper's Island.

This unit begins at UTM 540394 E, 3571212 N; to 538947 E, 3571753 N; to 539380 E, 3571882 N; to 539696 E, 3571718 N; to 539848 E, 3571390 N; to 541416 E, 3571975 N; to 542470 E, 3572549 N; to 542505 E, 3572911 N; to 542646 E, 3573122 N; to 543020 E, 3573146 N; to 543383 E, 3572701 N; to 543348 E, 3572139 N; to 542856 E, 3571589 N; to 540995 E, 3570629 N; to 539579 E, 3570337 N; to 539029 E, 3570501 N; to 538655 E, 3570887 N; to 538666 E, 3571378 N; to 538947 E, 3571753 N; and thence to point of beginning.

Unit SC-15: Hilton Head.

This unit begins at UTM 531383 E, 3563460 N; to 530298 E, 3563633 N; to 530666 E, 3563923 N; to 531301 E, 3564323 N; to 531168 E, 3564714 N; to 531066 E, 3565224 N; to 532311 E, 3564714 N; to 532390 E, 3563774 N; to 532343 E, 3563414 N; to 531951 E, 3562881 N; to 531622 E, 3562717 N; to 531238 E, 3562662 N; to 530557 E, 3563257 N; to 530298 E, 3563633 N; and thence to point of beginning.

BILLING CODE 4310-55-P

Georgia

Projection: Universal Transverse Mercator, Zone 17.

Unit GA-1: Tybee Island.

This unit begins at UTM 514045 E, 3543880 N; to 512869 E, 3542737 N; to 512863 E, 3542746 N; to 512801 E, 3542709 N; to 512622 E, 3543154 N; to 512962 E, 3543425 N; to 513345 E, 3543605 N; to 513548 E, 3543895 N; to 513715 E, 3544111 N; to 513839 E, 3544204 N; to 514018 E, 3544253 N; to 514271 E, 3544154 N; to 514759 E, 3543679 N; to 514784 E, 3543623 N; to 514926 E, 3543605 N; to 515037 E, 3543561 N; to 515154 E, 3543463 N; to 515234 E, 3543327 N; to 515327 E, 3543117 N; to 515352 E, 3542926 N; to 515389 E, 3542660 N; to 515395 E, 3542425 N; to 515376 E, 3542271 N; to 514984 E, 3542331 N; to 514984 E, 3542331 N; to 514913 E, 3542995 N; to 514843 E, 3543127 N; to 514580 E, 3543152 N; to 514358 E, 3543443 N; to 514003 E, 3543752 N; to 513880 E, 3543606 N; to 513841 E, 3543505 N; to 513562 E, 3543170 N; to 513175 E, 3542992 N; to 512939 E, 3542834 N; to 512869 E, 3542737 N; to 514184 E, 3543484 N; to 512869 E, 3542737 N; to 512939 E, 3542834 N; to 513175 E, 3542992 N; to 513562 E, 3543170 N; to 513841 E, 3543505 N; to 513880 E, 3543606 N; to 514003 E, 3543752 N; to 514358 E, 3543443 N; to 514580 E, 3543152 N; to 514843 E, 3543127 N; to 514913 E, 3542995 N; to 514984 E, 3542331 N; to 514984 E, 3542331 N; to 514938 E, 3542338 N; to 514833 E, 3542802 N; to 514759 E, 3543005 N; to 514488 E, 3543123 N; to 514314 E, 3543302 N; to 514036 E, 3543500 N; to 513901 E, 3543457 N; to 513629 E, 3543166 N; to 513418 E, 3543043 N; to 513178 E, 3542913 N; to 513023 E, 3542790 N; to 512888 E, 3542709 N; to 512869 E, 3542737 N; and thence to point of beginning.

Unit GA-2: Little Tybee Island.

This unit begins at UTM 509343 E, 3534814 N; to 513286 E, 3539174 N; to 513543 E, 3538965 N; to 513832 E, 3537502 N; to 513334 E, 3536859 N; to 511823 E, 3535508 N; to 507305 E, 3532840 N; to 506855 E, 3532856 N; to 506453 E, 3533418 N; to 506227 E, 3534094 N; to 506227 E, 3535187 N; to 506453 E, 3535525 N; to 506854 E, 3535541 N; to 507401 E, 3535091 N; to 507449 E, 3534592 N; to 507337 E, 3534399 N; to 507498 E, 3534303 N; to 507755 E, 3534480 N; to 508285 E, 3535107 N; to 508623 E, 3535476 N; to 510745 E, 3536280 N; to 511003 E, 3536328 N; to 512224 E, 3537213 N; to 512803 E, 3537663 N; to 512642 E, 3538515 N; to 512852 E, 3539174 N; to 512852 E, 3539158 N; to 513286 E, 3539174 N; and thence to point of beginning.

Unit GA-3: North Wassaw Island.

This unit begins at UTM 505704 E, 3530314 N; to 506872 E, 3530309 N; to 506861 E, 3530033 N; to 506769 E, 3529838 N; to 505601 E, 3528947 N; to 505355 E, 3528824 N; to 504997 E, 3528947 N; to 504393 E, 3530750 N; to 504516 E, 3531108 N; to 504997 E, 3531477 N; to 505632 E, 3531354 N; to 506728 E, 3530616 N; to 506872 E, 3530309 N; and thence to point of beginning.

Unit GA-4: South Wassaw Island.

This unit begins at UTM 500497 E, 3525400 N; to 500204 E, 3526469 N; to 500350 E, 3526442 N; to 501364 E, 3525756 N; to 501583 E, 3525546 N; to 501629 E, 3525327 N; to 501602 E, 3525135 N; to 501282 E, 3524596 N; to 500807 E, 3524167 N; to 500468 E, 3524048 N; to 500030 E, 3524030 N; to 499701 E, 3524158 N; to 499345 E, 3524550 N; to 499217 E, 3524916 N; to 499317 E, 3525354 N; to 499948 E, 3525811 N; to 500204 E, 3526469 N; and thence to point of beginning.

Unit GA-5: Ossabaw Island.

This unit begins at UTM 494565 E, 3516852 N; to 488807 E, 3511647 N; to 490483 E, 3513297 N; to 494937 E, 3518190 N; to 494689 E, 3520527 N; to 494882 E, 3521104 N; to 495432 E, 3521599 N; to 496257 E, 3521489 N; to 496779 E, 3521160 N; to 497109 E, 3520500 N; to 497164 E, 3519592 N; to 496614 E, 3518465 N; to 492903 E, 3513489 N; to 489274 E, 3510768 N; to 488944 E, 3510850 N; to 488779 E, 3511152 N; to 488807 E, 3511647 N; and thence to point of beginning.

Unit GA-6: St. Catherine's Island Bar.

This unit begins at UTM 488767 E, 3506356 N; to 487546 E, 3507411 N; to 487906 E, 3507591 N; to 488610 E, 3507442 N; to 488861 E, 3507278 N; to 489464 E, 3506738 N; to 489698 E, 3506378 N; to 489910 E, 3505618 N; to 489934 E, 3505258 N; to 489855 E, 3505078 N; to 489612 E, 3504820 N; to 489252 E, 3504773 N; to 488775 E, 3504960 N; to 487960 E, 3505869 N; to 487546 E, 3507411 N; and thence to point of beginning.

Unit GA-7: McQueen's Inlet.

This unit begins at UTM 486849 E, 3501058 N; to 488316 E, 3499565 N; to 487446 E, 3497726 N; to 485845 E, 3496916 N; to 485469 E, 3497153 N; to 485232 E, 3498102 N; to 485529 E, 3500929 N; to 485944 E, 3502075 N; to 486794 E, 3504091 N; to 487150 E, 3504289 N; to 487486 E, 3504131 N; to 487920 E, 3502629 N; to 488316 E, 3499565 N; and thence to point of beginning.

Unit GA-8: St. Catherine's Island.

This unit begins at UTM 483219 E, 3492370 N; to 483571 E, 3490934 N; to 483221 E, 3490878 N; to 482844 E, 3490926 N; to 482507 E, 3491248 N; to 482298 E, 3491381 N; to 482081 E, 3491779 N; to 482046 E, 3492017 N; to 482075 E, 3492136 N; to 482047 E, 3492695 N; to 482200 E, 3493038 N; to 482655 E, 3493478 N; to 482865 E, 3493534 N; to 483046 E, 3493499 N; to 483123 E, 3493443 N; to 484073 E, 3492513 N; to 484235 E, 3492478 N; to 484388 E, 3492360 N; to 484479 E, 3492220 N; to 484500 E, 3491863 N; to 484032 E, 3491290 N; to 483571 E, 3490934 N; and thence to point of beginning.

Unit GA-9: Blackbeard Island.

This unit begins at UTM 482718 E, 3487827 N; to 482480 E, 3485399 N; to 482275 E, 3485422 N; to 482048 E, 3485558 N; to 481934 E, 3485899 N; to 482059 E, 3486263 N; to 482833 E, 3486946 N; to 481843 E, 3488220 N; to 481081 E, 3488721 N; to 480842 E, 3488573 N; to 480716 E, 3488334 N; to 480341 E, 3488038 N; to 480080 E, 3488357 N; to 479818 E, 3488721 N; to 480216 E, 3489290 N; to 480501 E, 3489551 N; to 481046 E, 3489722 N; to 481331 E, 3489676 N; to 481650 E, 3489540 N; to 482127 E, 3489187 N; to 482833 E, 3488550 N; to 483834 E, 3486957 N; to 483823 E, 3486457 N; to 482480 E, 3485399 N; and thence to point of beginning.

Unit GA-10: Sapelo Island.

This unit begins at UTM 476364 E, 3476367 N; to 476251 E, 3475072 N; to 476177 E, 3474958 N; to 475469 E, 3474930 N; to 475516 E, 3475423 N; to 475873 E, 3476907 N; to 476845 E, 3477487 N; to 477398 E, 3477190 N; to 477230 E, 3476799 N; to 476251 E, 3475072 N; and thence to point of beginning.

Unit GA-11: Wolf Island.

This unit begins at UTM 472441 E, 3469004 N; to 471312 E, 3471617 N; to 472082 E, 3472191 N; to 473170 E, 3470155 N; to 473762 E, 3464919 N; to 470581 E, 3464979 N; to 470522 E, 3465611 N; to 470917 E, 3465986 N; to 472616 E, 3466006 N; to 472597 E, 3467765 N; to 471925 E, 3468219 N; to 471253 E, 3469760 N; to 471095 E, 3470254 N; to 471312 E, 3471617 N; and thence to point of beginning.

Unit GA-12: Egg Island Bar.

This unit begins at UTM 474259 E, 3463796 N; to 472638 E, 3463452 N; to 473852 E, 3464868 N; to 475673 E, 3464041 N; to 475084 E, 3462422 N; to 472914 E, 3462863 N; to 472638 E, 3463452 N; and thence to point of beginning.

Unit GA-13: Little St. Simon's Island.

This unit begins at UTM 473959 E, 3457909 N; to 471057 E, 3461394 N; to 471378 E, 3462168 N; to 471858 E, 3461981 N; to 472365 E, 3462301 N; to 473458 E, 3462568 N; to 475045 E, 3458500 N; to 472458 E, 3451938 N; to 470483 E, 3452258 N; to 470844 E, 3454379 N; to 471671 E, 3453899 N; to 473351 E, 3458593 N; to 472684 E, 3461261 N; to 471057 E, 3461394 N; and thence to point of beginning.

Unit GA-14: Sea/St. Simon's Island.

This unit begins at UTM 465847 E, 3447672 N; to 467440 E, 3449252 N; to 465170 E, 3445115 N; to 464474 E, 3445591 N; to 464963 E, 3445994 N; to 465048 E, 3447568 N; to 466524 E, 3449667 N; to 467440 E, 3449252 N; and thence to point of beginning.

Unit GA-15: Jekyll Island.

This unit begins at UTM 459063 E, 3431131 N; to 458282 E, 3432359 N; to 458654 E, 3432379 N; to 458757 E, 3431439 N; to 459170 E, 3431419 N; to 459470 E, 3431553 N; to 459728 E, 3431894 N; to 460182 E, 3432503 N; to 460657 E, 3432028 N; to 459697 E, 3430510 N; to 458013 E, 3430592 N; to 458075 E, 3432080 N; to 458282 E, 3432359 N; and thence to point of beginning.

Unit GA-16: Cumberland Island.

This unit begins at UTM 459712 E, 3413753 N; to 462435 E, 3425693 N; to 461935 E, 3418756 N; to 459288 E, 3410816 N; to 456498 E, 3404451 N; to 457929 E, 3397513 N; to 454896 E, 3398157 N; to 455297 E, 3398901 N; to 456384 E, 3398844 N; to 455698 E, 3401647 N; to 455812 E, 3406911 N; to 458702 E, 3412147 N; to 460533 E, 3418613 N; to 460504 E, 3422131 N; to 460561 E, 3424020 N; to 460961 E, 3425965 N; to 461305 E, 3426423 N; to 462435 E, 3425693 N; and thence to point of beginning.

Florida

Projection: Albers Equal-Area, Units: Meters, Datum: HPGN, Parameters: 1st Standardparallel: 24 0 0; 2nd Standard parallel: 31 30 0; Central meridian: −84 0 0; Latitude of projection reference: 24 0 0; False easting: 400000; False northing: 0.

Unit FL-1: Big Lagoon.

This unit begins at UTM 72604 E, 704871 N; to 74167 E, 705290 N; to 74912 E, 705403 N; to 74994 E, 704610 N; to 73688 E, 704444 N; to 72981 E, 704354 N; to 72070 E, 704239 N; to 71486 E, 704670 N; to 71247 E, 704847 N; to 71652 E, 704908 N; to 73425 E, 705177 N; to 74167 E, 705290 N; and thence to point of beginning.

Unit FL-2: Big Sabine.

This unit begins at UTM 108301 E, 707635 N; to 109133 E, 711008 N; to 110549 E, 711021 N; to 111989 E, 707573 N; to 104992 E, 706101 N; to 104637 E, 707641 N; to 104449 E, 708456 N; to 104189 E, 709582 N; to 105949 E, 710427 N; to 105964 E, 710434 N; to 107118 E, 710988 N; to 109118 E, 711007 N; to 109133 E, 711008 N; and thence to point of beginning.

Unit FL-3: Navarre Beach.

This unit begins at UTM 126686 E, 711110 N; to 127659 E, 713103 N; to 128179 E, 713103 N; to 128179 E, 712988 N; to 128179 E, 712115 N; to 128179 E, 711547 N; to 128179 E, 710207 N; to 125193 E, 710207 N; to 125193 E, 713091 N; to 125193 E, 713103 N; to 125415 E, 713103 N; to 127659 E, 713103 N; and thence to point of beginning.

Unit FL-4: Marifarms.

This unit begins at UTM 232704 E, 697981 N; to 231359 E, 700066 N; to 233004 E, 698658 N; to 233244 E, 698845 N; to 234097 E, 697832 N; to 233491 E, 697779 N; to 233484 E, 697778 N; to 233657 E, 697272 N; to 233817 E, 697179 N; to 233937 E, 696934 N; to 234471 E, 695845 N; to 233071 E, 695285 N; to 230444 E, 699618 N; to 231338 E, 700085 N; to 231351 E, 700073 N; to 231359 E, 700066 N; and thence to point of beginning.

Unit FL-5: Shell/Crooked Islands.

This unit begins at UTM 247749 E, 671302 N; to 234803 E, 681585 N; to 235353 E, 680799 N; to 238362 E, 678161 N; to 241000 E, 677050 N; to 242434 E, 675662 N; to 244193 E, 675060 N; to 244795 E, 674319 N; to 245037 E, 674259 N; to 245135 E, 674234 N; to 245143 E, 674226 N; to 245176 E, 674205 N; to 245218 E, 674190 N; to 245246 E, 674169 N; to 245263 E, 674141 N; to 245287 E, 674120 N; to 245307 E, 674089 N; to 245339 E, 674071 N; to 245374 E, 674054 N; to 245397 E, 674029 N; to 245417 E, 674009 N; to 245471 E, 673975 N; to 245511 E, 673955 N; to 245559 E, 673925 N; to 245594 E, 673905 N; to 245648 E, 673888 N; to 245683 E, 673865 N; to 245732 E, 673837 N; to 245783 E, 673817 N; to 245821 E, 673814 N; to 245863 E, 673828 N; to 245892 E, 673836 N; to 245943 E, 673814 N; to 245980 E, 673785 N; to 245994 E, 673758 N; to 246028 E, 673722 N; to 246064 E, 673710 N; to 246129 E, 673705 N; to 246171 E, 673701 N; to 246210 E, 673694 N; to 246264 E, 673688 N; to 246269 E, 673691 N; to 247063 E, 673116 N; to 247129 E, 673055 N; to 247988 E, 672271 N; to 249290 E, 670666 N; to 250013 E, 669943 N; to 252472 E, 667339 N; to 255075 E, 665315 N; to 255292 E, 664230 N; to 257462 E, 662928 N; to 257802 E, 662827 N; to 260137 E, 662133 N; to 260351 E, 661791 N; to 260499 E, 661554 N; to 261077 E, 660108 N; to 257172 E, 660180 N; to 252906 E, 662856 N; to 249001 E, 667123 N; to 244517 E, 671606 N; 232874 E, 678404 N; to 233121 E, 680310 N; to 234803 E, 681585 N; and thence to point of beginning.

Unit FL-6: Upper St. Joe Peninsula.

This unit begins at UTM 264202 E, 649954 N; to 263328 E, 646264 N; to 261673 E, 646007 N; to 261523 E, 648630 N; to 261822 E, 650954 N; to 263172 E, 653427 N; to 266320 E, 654851 N; to 267669 E, 654326 N; to 268194 E, 652752 N; to 265045 E, 646531 N; to 264205 E, 646401 N; to 263328 E, 646264 N; and thence to point of beginning.

Unit FL-7: Cape San Blas.

This unit begins at UTM 269729 E, 628433 N; to 271100 E, 630960 N; to 271723 E, 631052 N; to 272235 E, 629456 N; to 271202 E, 627733 N; to 270598 E, 627364 N; to 269830 E, 627247 N; to 269098 E, 627364 N; to 268457 E, 627772 N; to 267433 E, 628862 N; to 266829 E, 629874 N; to 266729 E, 630312 N; to 269114 E, 630666 N; to 271100 E, 630960 N; and thence to point of beginning.

Unit FL-8: St. Vincent Island.

This unit begins at UTM 294248 E, 626986 N; to 294995 E, 630938 N; to 295488 E, 631925 N; to 298443 E, 631500 N; to 298567 E, 629943 N; to 298204 E, 628944 N; to 296169 E, 624998 N; to 295267 E, 624103 N; to 294893 E, 623731 N; to 293675 E, 622522 N; to 290632 E, 624008 N; to 290225 E, 625441 N; to 290357 E, 625459 N; to 293622 E, 625901 N; to 295400 E, 629819 N; to 294975 E, 630899 N; to 294995 E, 630938 N; to 282740 E, 630619 N; to 283176 E, 631015 N; to 283824 E, 630103 N; to 283748 E, 630027 N; to 282939 E, 629218 N; to 280760 E, 630321 N; to 282031 E, 631281 N; to 282653 E, 631751 N; to 283176 E, 631015 N; and thence to point of beginning.

Unit FL-9: East St. George Island.

This unit begins at UTM 327537 E, 637190 N; to 331619 E, 642193 N; to 332318 E, 642718 N; to 333986 E, 641977 N; to 334974 E, 639815 N; to 332812 E, 634255 N; to 322619 E, 628880 N; to 321481 E, 630777 N; to 320580 E, 632278 N; to 320889 E, 634131 N; to 331619 E, 642193 N; and thence to point of beginning.

Unit FL-10: Yent Bayou.

This unit begins at UTM 327217 E, 641936 N; to 328104 E, 643576 N; to 328242 E, 643651 N; to 329854 E, 642490 N; to 326458 E, 639739 N; to 324753 E, 641673 N; to 324737 E, 641691 N; to 324716 E, 641715 N; to 324702 E, 641730 N; to 324696 E, 641738 N; to 325103 E, 641958 N; to 326375 E, 642644 N; to 326446 E, 642682 N; to 326575 E, 642752 N; to 326589 E, 642759 N; to 326715 E, 642827 N; to 326752 E, 642847 N; to 326764 E, 642853 N; to 326877 E, 642915 N; to 327281 E, 643132 N; to 327760 E, 643391 N; to 328104 E, 643576 N; and thence to point of beginning.

Unit FL-11: Carabelle Beach.

This unit begins at UTM 334905 E, 646117 N; to 334194 E, 647675 N; to 334880 E, 648086 N; to 335351 E, 647832 N; to 336872 E, 646655 N; to 336438 E, 645696 N; to 335333 E, 645225 N; to 333576 E, 645460 N; to 332762 E, 646818 N; to 333118 E, 647032 N; to 334194 E, 647675 N; and thence to point of beginning.

Unit FL-12: Lanark Reef.

This unit begins at UTM 344382 E, 651062 N; to 340519 E, 651005 N; to 346705 E, 654054 N; to 347414 E, 653239 N; to 347503 E, 652530 N; to 346989 E, 651360 N; to 342150 E, 649180 N; to 340767 E, 650084 N; to 340519 E, 651005 N; and thence to point of beginning.

Unit FL-13: Phipps Preserve.

This unit begins at UTM 358696 E, 655615 N; to 359499 E, 655877 N; to 359048 E, 653677 N; to 357606 E, 654056 N; to 356217 E, 655336 N; to 355965 E, 656382 N; to 357606 E, 657500 N; to 360022 E, 656653 N; to 359499 E, 655877 N; and thence to point of beginning.

Unit FL-14: Hagens Cove.

This unit begins at UTM 439463 E, 640163 N; to 442273 E, 638847 N; to 439808 E, 636998 N; to 438636 E, 638439 N; to 438060 E, 641782 N; to 440876 E, 642633 N; to 440923 E, 642647 N; to 441672 E, 642493 N; to 443171 E, 639419 N; to 442345 E, 638900 N; to 442273 E, 638847 N; and thence to point of beginning.

Unit FL-15: Anclote Keys.

This unit begins at UTM 512648 E, 465612 N; to 513535 E, 471894 N; to 515000 E, 471826 N; to 516056 E, 460514 N; to 510775 E, 460821 N; to 510707 E, 471997 N; to 513535 E, 471894 N; and thence to point of beginning.

Unit FL-16: Three Rooker Island.

This unit begins at UTM 513409 E, 457484 N; to 512082 E, 459662 N; to 515831 E, 459704 N; to 516087 E, 455870 N; to 511997 E, 455955 N; to 512082 E, 459662 N; and thence to point of beginning.

Unit FL-17: North Honeymoon Island.

This unit begins at UTM 513886 E, 453853 N; to 513365 E, 452398 N; to 512410 E, 452335 N; to 512620 E, 455050 N; to 515884 E, 455099 N; to 515467 E, 454636 N; to 514430 E, 453483 N; to 514397 E, 452465 N; to 513365 E, 452398 N; and thence to point of beginning.

Unit FL-18: South Honeymoon Island.

This unit begins at UTM 516037 E, 450451 N; to 515090 E, 449543 N; to 514527 E, 450348 N; to 515332 E, 450683 N; to 515729 E, 450848 N; to 515944 E, 450937 N; to 515965 E, 450946 N; to 516547 E, 450752 N; to 516698 E, 449817 N; to 516724 E, 449653 N; to 516667 E, 449661 N; to 516267 E, 449721 N; to 516267 E, 449721 N; to 516024 E, 449757 N; to 515965 E, 449766 N; to 515944 E, 449761 N; to 515217 E, 449572 N; to 515092 E, 449540 N; to 515090 E, 449543 N; and thence to point of beginning.

Unit FL-19: Caladesi Island.

This unit begins at UTM 514720 E, 447872 N; to 516267 E, 449721 N; to 516663 E, 449634 N; to 516724 E, 449621 N; to 516645 E, 449532 N; to 516191 E, 449023 N; to 515302 E, 446566 N; to 515325 E, 446430 N; to 515480 E, 445484 N; to 513266 E, 445564 N; to 513315 E, 445564 N; to 514203 E, 449281 N; to 515076 E, 449540 N; to 515090 E, 449543 N; to 515090 E, 449543 N; to 515092 E, 449540 N; to 515217 E, 449572 N; to 515944 E, 449761 N; to 515965 E, 449766 N; to 516024 E, 449757 N; to 516267 E, 449721 N; and thence to point of beginning.

Unit FL-20: Shell Key and Mullet Key.

This unit begins at UTM 522755 E, 405904 N; to 524490 E, 402622 N; to 522296 E, 402015 N; to 522083 E, 405134 N; to 521682 E, 406859 N; to 522083 E, 408820 N; to 524683 E, 408939 N; to 524730 E, 408561 N; to 525084 E, 408112 N; to 524234 E, 407875 N; to 523903 E, 406670 N; to 524683 E, 405347 N; to 524163 E, 405134 N; to 524177 E, 405090 N; to 524588 E, 403811 N; to 524517 E, 402629 N; to 524490 E, 402622 N; and thence to point of beginning.

Unit FL-21: Egmont Key.

This unit begins at UTM 521928 E, 399050 N; to 524187 E, 396840 N; to 524189 E, 396828 N; to 524063 E, 396829 N; to 520449 E, 396853 N; to 519988 E, 399087 N; to 520498 E, 401102 N; to 523582 E, 401054 N; to 524187 E, 396840 N; and thence to point of beginning.

Unit FL-22: Cayo Costa.

This unit begins at UTM 572184 E, 297955 N; to 573556 E, 299054 N; to 573567 E, 299018 N; to 573572 E, 299002 N; to 573591 E, 298942 N; to 573605 E, 298896 N; to 573629 E, 298817 N; to 573666 E, 298696 N; to 573674 E, 298671 N; to 573716 E, 298533 N; to 573785 E, 298310 N; to 573790 E, 298295 N; to 573795 E, 298277 N; to 573804 E, 298247 N; to 573809 E, 298232 N; to 573828 E, 298171 N; to 573828 E, 298171 N; to 573847 E, 298107 N; to 573851 E, 298095 N; to 573857 E, 298077 N; to 573890 E, 297969 N; to 573896 E, 297948 N; to 573903 E, 297925 N; to 573923 E, 297862 N; to 573932 E, 297831 N; to 573939 E, 297809 N; to 574015 E, 297563 N; to 574029 E, 297515 N; to 574039 E, 297485 N; to 574267 E, 296743 N; to 574781 E, 295073 N; to 574799 E, 295016 N; to 574815 E, 294961 N; to 574756 E, 294950 N; to 574695 E, 294940 N; to 574662 E, 294934 N; to 573024 E, 294644 N; to 570802 E, 298158 N; to 571573 E, 300539 N; to 573138 E, 300275 N; to 573183 E, 300267 N; to 573556 E, 299054 N; and thence to point of beginning.

Unit FL-23: North Captiva Island.

This unit begins at UTM 576601 E, 289017 N; to 577848 E, 287371 N; to 577876 E, 286985 N; to 577877 E, 286979 N; to 577875 E, 286979 N; to 574997 E, 286458 N; to 574770 E, 289201 N; to 575042 E, 290449 N; to 577763 E, 290879 N; to 577695 E, 289451 N; to 577796 E, 288081 N; to 577848 E, 287371 N; and thence to point of beginning.

Unit FL-24: Captiva Island and Sanibel Island.

This unit begins at UTM 580844 E, 275784 N; to 581804 E, 275109 N; to 581117 E, 274510 N; to 579744 E, 276673 N; to 580630 E, 276777 N; to 580809 E, 276798 N; to 580983 E, 276973 N; to 581200 E, 276465 N; to 581882 E, 275176 N; to 581804 E, 275109 N; and thence to point of beginning.

Unit FL-25: Bunch Beach.

This unit begins at UTM 600837 E, 275733 N; to 602992 E, 275407 N; to 602748 E, 274477 N; to 602656 E, 274125 N; to 602609 E, 273948 N; to 597678 E, 276408 N; to 598020 E, 277081 N; to 598028 E, 277095 N; to 598365 E, 277228 N; to 599269 E, 277252 N; to 600813 E, 276890 N; to 601838 E, 276577 N; to 602320 E, 276227 N; to 603068 E, 275696 N; to 602992 E, 275407 N; and thence to point of beginning.

Unit FL-26: Estero Island.

This unit begins at UTM 608152 E, 269492 N; to 607538 E, 271349 N; to 608151 E, 270790 N; to 608840 E, 269977 N; to 608999 E, 269128 N; to 609777 E, 268333 N; to 610000 E, 268285 N; to 610024 E, 268280 N; to 610342 E, 267962 N; to 609423 E, 267149 N; to 606719 E, 270914 N; to 607484 E, 271320 N; to 607538 E, 271349 N; and thence to point of beginning.

Unit FL-27: Marco Island.

This unit begins at UTM 625861 E, 217665 N; to 625978 E, 221782 N; to 626119 E, 221805 N; to 625781 E, 220819 N; to 626654 E, 221073 N; to 626936 E, 221044 N; to 626702 E, 220780 N; to 626288 E, 220312 N; to 625865 E, 219861 N; to 625076 E, 219185 N; to 625076 E, 218565 N; to 625442 E, 218142 N; to 626034 E, 217945 N; to 626401 E, 217240 N; to 626936 E, 216508 N; to 627218 E, 215381 N; to 627274 E, 214648 N; to 627443 E, 213916 N; to 627492 E, 213801 N; to 627528 E, 213718 N; to 628007 E, 212084 N; to 626654 E, 211887 N; to 626062 E, 215522 N; to 624992 E, 217269 N; to 623977 E, 218987 N; to 624569 E, 220594 N; to 624428 E, 221523 N; to 625105 E, 221636 N; to 625978 E, 221782 N; and thence to point of beginning.

Unit FL-28: Marquesas Keys.

This unit begins at UTM 589947 E, 64900 N; to 585588 E, 66994 N; to 586950 E, 68633 N; to 588990 E, 69370 N; to 595167 E, 67613 N; to 592390 E, 59169 N; to 585688 E, 60426 N; to 584230 E, 60700 N; to 583890 E, 64950 N; to 585588 E, 66994 N; and thence to point of beginning.

Unit FL-29: Boca Grande/Woman/Ballast Keys.

This unit begins at UTM 604093 E, 60521 N; to 601724 E, 62876 N; to 608389 E, 60949 N; to 607504 E, 57503 N; to 600251 E, 58727 N; to 599661 E, 61810 N; to 601157 E, 62785 N; to 601724 E, 62876 N; and thence to point of beginning.

Unit FL-30: Bahia Honda/Ohio Keys.

This unit begins at UTM 676754 E, 76504 N; to 673882 E, 76942 N; to 677121 E, 79648 N; to 680417 E, 76790 N; to 674491 E, 73970 N; to 673882 E, 76942 N; and thence to point of beginning.

Unit FL-31: Lower Matecumbe Key.

This unit begins at UTM 729501 E, 100495 N; to 729673 E, 99910 N; to 729627 E, 99849 N; to 728898 E, 100507 N; to 729698 E, 100998 N; to 730225 E, 100321 N; to 730129 E, 100270 N; to 729837 E, 100115 N; to 729718 E, 99968 N; to 729673 E, 99910 N; to 729753 E, 98283 N; to 730155 E, 99108 N; to 730785 E, 98456 N; to 728947 E, 97225 N; to 728371 E, 97915 N; to 728393 E, 97930 N; to 729212 E, 98476 N; to 729321 E, 98488 N; to 729384 E, 98437 N; to 729571 E, 98534 N; to 729680 E, 98431 N; to 729764 E, 98630 N; to 729911 E, 98785 N; to 730049 E, 98993 N; to 730155 E, 99108 N; to 730155 E, 99108 N; and thence to point of beginning.

Unit FL-32: Sandy Key/Carl Ross Key.

This unit begins at UTM 700920 E, 118607 N; to 699036 E, 119411 N; to 700003 E, 120708 N; to 702225 E, 120247 N; to 703456 E, 117278 N; to 699894 E, 115914 N; to 698904 E, 118355 N; to 699036 E, 119411 N; and thence to point of beginning.

Unit FL-33: St. Lucie Inlet.

This unit begins at UTM 781031 E, 355393 N; to 782209 E, 356209 N; to 782486 E, 355067 N; to 780631 E, 353782 N; to 779311 E, 355959 N; to 778791 E, 356297 N; to 777777; to 356957; to 779204 E, 357243 N; to 781666 E, 358456 N; to 782209 E, 356209 N; and thence to point of beginning.

Unit FL-34: Ponce de Leon Inlet.

This unit begins at UTM 699895 E, 567004 N; to 699342 E, 567430 N; to 700394 E, 568058 N; to 701612 E, 566385 N; to 700745 E, 565653 N; to 700560 E, 565768 N; to 699971 E, 566138 N; to 699619 E, 565907 N; to 699573 E, 565877 N; to 699510 E, 565835 N; to 699310 E, 565704 N; to 698309 E, 566778 N; to 698577 E, 566974 N; to 698885 E, 567158 N; to 699134 E, 567306 N; to 699171 E, 567328 N; to 699342 E, 567430 N; and thence to point of beginning.

Unit FL-35: Huguenot.

This unit begins at UTM 648016 E, 718082 N; to 647534 E, 724455 N; to 649878 E, 723134 N; to 650539 E, 715996 N; to 651233 E, 712857 N; to 649278 E, 712969 N; to 648920 E, 712989 N; to 647929 E, 713187 N; to 646739 E, 712791 N; to 646854 E, 713598 N; to 646880 E, 713782 N; to 646937 E, 714179 N; to 646984 E, 714454 N; to 647050 E, 714841 N; to 647168 E, 715534 N; to 647367 E, 716096 N; to 647400 E, 717219 N; to 647340 E, 717289 N; to 647003 E, 717682 N; to 646889 E, 718458 N; to 646834 E, 718825 N; to 646829 E, 718860 N; to 646827 E, 718875 N; to 646798 E, 719069 N; to 646743 E, 719440 N; to 646732 E, 719520 N; to 646574 E, 720590 N; to 646759 E, 722102 N; to 646772 E, 722209 N; to 646668 E, 722341 N; to 646144 E, 723002 N; to 645566 E, 723709 N; to 647524 E, 724474 N; to 647534 E, 724472 N; to 647534 E, 724455 N; and thence to point of beginning.

Unit FL-36: Tiger Islands.

This unit begins at UTM 641314 E, 746934 N; to 639468 E, 748336 N; to 639503 E, 748510 N; to 640092 E, 749177 N; to 641689 E, 747037 N; to 642521 E, 745921 N; to 643266 E, 744920 N; to 642908 E, 744302 N; to 642785 E, 744419 N; to 642631 E, 744546 N; to 641224 E, 745710 N; to 639855 E, 746845 N; to 639259 E, 747334 N; to 639292 E, 747473 N; to 639468 E, 748336 N; and thence to point of beginning. insert p. 111a

Alabama

Projection: Universal Transverse Mercator, Zone 16.

Unit AL-1: Isle Aux Herbes.

This unit encompasses Isle Aux Herbes in entirety. This unit begins at UTM 378427 E, 3357011 N; to 378486 E, 3357070 N; to 378279 E, 3357189 N; to 378101 E, 3357411 N; to 378012 E, 3357723 N; to 378086 E, 3358019 N; to 378279 E, 3358182 N; to 378397 E, 3358716 N; to 378427 E, 3358924 N; to 378412 E, 3359443 N; to 378353 E, 3359769 N; to 378397 E, 3360110 N; to 378768 E, 3360391 N; to 379124 E, 3360362 N; to 379420 E, 3360125 N; to 379717 E, 3359635 N; to 379717 E, 3358998 N; to 379643 E, 3358316 N; to 379613 E, 3358123 N; to 379702 E, 3357604 N; to 379924 E, 3357026 N; to 380028 E, 3356641 N; to 379998 E, 3356122 N; to 379954 E, 3355662 N; to 379702 E, 3354728 N; to 379435 E, 3354580 N; to 379124 E, 3354565 N; to 378783 E, 3354698 N; to 378353 E, 3355114 N; to 378204 E, 3355662 N; to 377923 E, 3355899 N; to 377760 E, 3356448 N; to 377775 E, 3356744 N; to 378086 E, 3356996 N; and thence to point of beginning.

Unit AL-2: Dauphin, Little Dauphin, and Pelican Islands.

This unit begins at UTM 371083 E, 3345318 N; to 392178 E, 3351743 N; to 398229 E, 3346603 N; to 395819 E, 3341998 N; to 393999 E, 3341945 N; to 389876 E, 3345746 N; to 371618 E, 3343230 N, thence northwesterly to point of beginning. This unit encompasses Dauphin, Little Dauphin, and Pelican Islands.

Unit AL-3: Fort Morgan.

This unit begins at 401192 E, 3344885 N; to 401534 E, 3345098 N; to 402007 E, 3344340 N; to 401820 E, 3344041 N; to 402876 E, 3344274 N; to 403068 E, 3343313 N; to 402212 E, 3343088 N; to 401562 E, 3343010 N; to 401416 E, 3343019 N; to 401047 E, 3343106 N; to 400885 E, 3343214 N; to 400784 E, 3343360 N; to 400640 E, 3343675 N; to 400602 E, 3343866 N; to 400686 E, 3344143 N; and thence to point of beginning.

Mississippi

Projection: Universal Transverse Mercator, Zone 16.

Unit MS-1: Waveland.

This unit begins at UTM 267756 E, 3349889 N; to 269537 E, 3350370 N; to 270344 E, 3350774 N; to 271296 E, 3351446 N; to 271968 E, 3352365 N; to 272764 E, 3353037 N; to 275060 E, 3354045 N; to 275744 E, 3354617 N; to 276438 E, 3355827 N; to 276450 E, 3356286 N; to 276104 E, 3356761 N; to 276747 E, 3357000 N; to 276899 E, 3356839 N; to 277095 E, 3356504 N; to 277107 E, 3355751 N; to 276170 E, 3354056 N; to 274807 E, 3353025 N; to 273106 E, 3352394 N; to 272361 E, 3351760 N; to 271717 E, 3350899 N; to 270609 E, 3350084 N; to 269762 E, 3349668 N; to 267675 E, 3349042 N; to 267194 E, 3348408 N; to 267225 E, 3347624 N; to 266665 E, 3347301 N; to 266495 E, 3347963 N; to 266579 E, 3348679 N; to 267028 E, 3349452 N; and thence to point of beginning.

Unit MS-2: Henderson Point.

This unit begins at UTM 280338 E, 3354688 N; to 280790 E, 3354728 N; to 281602 E, 3354928 N; to 283013 E, 3355433 N; to 283585 E, 3355606 N; to 283838 E, 3354835 N; to 283678 E, 3354781 N; to 283492 E, 3354835 N; to 283252 E, 3354715 N; to 281988 E, 3354262 N; to 281216 E, 3354063 N; to 280458 E, 3353943 N; to 279433 E, 3353956 N; to 279433 E, 3354715 N; and thence to point of beginning.

Unit MS-3: Pass Christian.

This unit begins at UTM 283925 E, 3355530 N; to 284382 E, 3355904 N; to 285671 E, 3356362 N; to 287168 E, 3356985 N; to 289102 E, 3357422 N; to 290058 E, 3357609 N; to 291139 E, 3358108 N; to 292865 E, 3358815 N; to 293738 E, 3359023 N; to 293863 E, 3358295 N; to 293177 E, 3358129 N; to 292657 E, 3357879 N; to 292137 E, 3357734 N; to 290516 E, 3357006 N; to 287480 E, 3356278 N; to 286503 E, 3355925 N; to 286149 E, 3355759 N; to 284673 E, 3355218 N; to 284403 E, 3355010 N; and thence to point of beginning.

Unit MS-4: Long Beach.

This unit begins at UTM 293933 E, 3359057 N; to 294542 E, 3359478 N; to 295646 E, 3359961 N; to 296402 E, 3360161 N; to 297989 E, 3360791 N; to 298189 E, 3360077 N; to 297411 E, 3359762 N; to 296644 E, 3359467 N; to 295992 E, 3359310 N; to 294658 E, 3358690 N; to 294395 E, 3358427 N; and thence to point of beginning.

Unit MS-5: Gulfport.

This unit begins at UTM 299324 E, 3361159 N; to 300185 E, 3361611 N; to 301919 E, 3362147 N; to 302581 E, 3362168 N; to 303012 E, 3362378 N; to 303475 E, 3362441 N; to 303590 E, 3361727 N; to 303212 E, 3361653 N; to 302781 E, 3361453 N; to 301867 E, 3361359 N; to 300333 E, 3360886 N; to 299702 E, 3360550 N; and thence to point of beginning.

Unit MS-6: Mississippi City.

This unit begins at UTM 303717 E, 3361711 N; to 303536 E, 3362466 N; to 304291 E, 3362647 N; to 305260 E, 3362827 N; to 306163 E, 3363139 N; to 307493 E, 3363468 N; to 311237 E, 3363829 N; to 311286 E, 3363107 N; to 307641 E, 3362729 N; and thence to point of beginning.

Unit MS-7: Beauvoir.

This unit begins at UTM 311549 E, 3363796 N; to 312075 E, 3363895 N; to 312075 E, 3363123 N; to 311533 E, 3363090 N; and thence to point of beginning.

Unit MS-8: Biloxi West.

This unit begins at UTM 312255 E, 3363780 N; to 313536 E, 3363944 N; to 315605 E, 3364043 N; to 317657 E, 3364026 N; to 318051 E, 3363960 N; to 317969 E, 3363189 N; to 316065 E, 3363336 N; to 314652 E, 3363205 N; to 312682 E, 3363107 N; to 312419 E, 3363057 N; and thence to point of beginning.

Unit MS-9: Biloxi East.

This unit begins at UTM 319020 E, 3363813 N; to 319316 E, 3363895 N; to 320498 E, 3363731 N; to 320416 E, 3363024 N; to 319381 E, 3363139 N; to 319119 E, 3363057 N; and thence to point of beginning.

Unit MS-10: Ocean Springs West.

This unit begins at UTM 323027 E, 3365750 N; to 323897 E, 3365438 N; to 324997 E, 3364814 N; to 324554 E, 3364207 N; to 323848 E, 3364617 N; to 323240 E, 3364896 N; to 322698 E, 3365110 N; and thence to point of beginning.

Unit MS-11: Ocean Springs East.

This unit begins at UTM 325670 E, 3364338 N; to 326409 E, 3363796 N; to 326967 E, 3363681 N; to 327427 E, 3363731 N; to 327805 E, 3364043 N; to 328314 E, 3363648 N; to 327723 E, 3363057 N; to 326787 E, 3362942 N; to 326229 E, 3363090 N; to 325736 E, 3363369 N; to 325260 E, 3363747 N; and thence to point of beginning.

Unit MS-12: Deer Island.

This unit encompasses Deer Island in entirety. This unit begins at UTM 321533 E, 3361399 N; to 319662 E, 3362329 N; to 319218 E, 3362691 N; to 318602 E, 3362714 N; to 318711 E, 3363223 N; to 319626 E, 3363546 N; to 324209 E, 3361699 N; to 325499 E, 3360487 N; to 325621 E, 3359759 N; to 325363 E, 3359468 N; to 325016 E, 3359473 N; and thence to point of beginning.

Unit MS-13: Round Island.

This unit encompasses Round Island in entirety. This unit begins at UTM 347673 E, 3353022 N; to 348061 E, 3352672 N; to 348250 E, 3352289 N; to 348222 E, 3351986 N; to 347891 E, 3351594 N; to 347470 E, 3351456 N; to 347233 E, 3351475 N; to 346997 E, 3351745 N; to 346940 E, 3352043 N; to 346651 E, 3352662 N; to 346618 E, 3352852 N; to 346727 E, 3353169 N; to 346888 E, 3353301 N; to 347086 E, 3353348 N; to 347271 E, 3353306 N; and thence to point of beginning.

Unit MS-14: Mississippi Barrier Islands.

This unit begins at UTM 290469 E, 3346115 N; to 302098 E, 3349286 N; to 309998 E, 3345955 N; to 318634 E, 3350074 N; to 338564 E, 3349808 N; to 367130 E, 3344494 N; to 366200, 3338515, to 334046 E, 3343962 N; to 321026 E, 3344892 N; to 310131 E, 3340242 N; to 302558 E, 3344361 N; to 298398 E, 3341534 N; thence northwesterly to point of beginning. This unit encompasses Cat, East and West Ship, Horn, Spoil, and Petit Bois Islands.

Unit MS-15: North and South Rigolets.

This unit begins at UTM 366028 E, 3360924 N; to 366177 E, 3360549 N; to 366219 E, 3359868 N; to 366097 E, 3359298 N; to 366208 E, 3358902 N; to 366614 E, 3359003 N; to 366918 E, 3358853 N; to 367040 E, 3358499 N; to 366984 E, 3358225 N; to 366457 E, 3357633 N; to 366127 E, 3357492 N; to 365157 E, 3356726 N; to 364542 E, 3356772 N; to 364311 E, 3357045 N; to 364280 E, 3357236 N; to 364379 E, 3357547 N; to 364658 E, 3357841 N; to 365121 E, 3357880 N; to 365540 E, 3358226 N; to 365353 E, 3358519 N; to 365291 E, 3359068 N; to 365371 E, 3359333 N; to 365346 E, 3359848 N; to 365312 E, 3360173 N; to 365122 E, 3360414 N; to 365127 E, 3360796 N; to 365364 E, 3361062 N; to 365667 E, 3361140 N; to 365831 E, 3361100 N; and thence to point of beginning.

Louisiana

Projections: Universal Transverse Mercator, Zones 15 and 16.

Unit LA-1: Texas/Louisiana border to eastern Vermilion Parish line (Universal Transverse Mercator, Zone 15)

This unit begins at UTM 549921 E, 3270899 N; to 566322 E, 3267417 N; to 571958 E, 3268197 N; to 577923 E, 3271736 N; to 582480 E, 3273402 N; to 592852 E, 3273900 N; to 593548 E, 3273291 N; to 592282 E, 3272379 N; to 582604 E, 3272411 N; to 578272 E, 3270822 N; to 572228 E, 3267247 N; to 564070 E, 3266639 N; to 533684 E, 3272905 N; to 525059 E, 3276025 N; to 501487 E, 3287178 N; to 482367 E, 3292713 N; to 476081 E, 3293464 N; to 467070 E, 3291634 N; to 453754 E, 3292703 N; to 435729 E, 3290424 N; to 426892 E, 3288473 N; to 419648 E, 3284415 N; to 418566 E, 3284630 N; to 418959 E, 3285566 N; to 426625 E, 3289421 N; to 435613 E, 3291411 N; to 453710 E, 3293699 N; to 466987 E, 3292644 N; to 474538 E, 3294391 N; to 478889 E, 3294275 N; to 494448 E, 3290582 N; to 503238 E, 3287582 N; to 525371 E, 3276955 N; to 533044 E, 3274141 N; and thence to point of beginning.

Unit LA-2: Wax Lake Outlet (Universal Transverse Mercator, Zone 15)

This unit begins at UTM 646782 E, 3269766 N; to 652296 E, 3271086 N; to 654392 E, 3271086 N; to 670855 E, 3263787 N; to 671787 E, 33255322 N; to 658547 E, 3247455 N; to 652529 E, 3250973 N; to 656722 E, 3259205 N; to 654936 E, 3262466 N; to 648180 E, 3261069 N; to 644763 E, 3265573 N; thence northeasterly to point of beginning. This unit encompasses the Wax Lake Outlet and Lower Atchafalaya River Deltas.

Unit LA-3: Point Au Fer Island (Universal Transverse Mercator, Zone 15)

This unit encompasses the small island at the western tip of Point Au Fer Island in entirety. This unit has two subunits. The first subunit begins at UTM 660362 E, 3246187 N; to 660677 E, 3245831 N; to 660809 E, 3245294 N; to 660594 E, 3244817 N; to 660164 E, 3244544 N; to 659870 E, 3244668 N; to 659655 E, 3244980 N; to 659598 E, 3245719 N; to 659892 E, 3246267 N; and thence to point of beginning. The second subunit begins at UTM 688276 E, 3230473 N; to 688513 E, 3230493 N; to 689239 E, 3231156 N; to 689719 E, 3230479 N; to 689101 E, 3229629 N; to 688456 E, 3229355 N; to 687982 E, 3229452 N; to 687340 E, 3229933 N; to 686659 E, 3230000 N; to 686483 E, 3230138 N; to 686095 E, 3230037 N; to 685320 E, 3230088 N; to 684886 E, 3230342 N; to 684541 E, 3230938 N; to 683506 E, 3231763 N; to 683116 E, 3232252 N; to 681730 E, 3233236 N; to 681153 E, 3233006 N; to 679008 E, 3233530 N; to 674128 E, 3233699 N; to 667883 E, 3235988 N; to 666497 E, 3236823 N; to 664425 E, 3238610 N; to 663278 E, 3240153 N; to 661418 E, 3242077 N; to 660332 E, 3243790 N; to 660133 E, 3244344 N; to 660844 E, 3244690 N; to 662060 E, 3242757 N; to 663898 E, 3240858 N; to 665026 E, 3239333 N; to 666965 E, 3237663 N; to 667576 E, 3237238 N; to 668081 E, 3237128 N; to 668326 E, 3236866 N; to 674311 E, 3234674 N; to 679071 E, 3234524 N; to 681153 E, 3234037 N; to 681294 E, 3234104 N; to 681381 E, 3234648 N; to 681855 E, 3234763 N; to 682179 E, 3234426 N; to 682221 E, 3234059 N; to 683400 E, 3233242 N; to 684054 E, 3232541 N; to 684844 E, 3231990 N; to 685198 E, 3231636 N; to 685464 E, 3231096 N; to 686967 E, 3231116 N; to 687132 E, 3230975 N; to 687651 E, 3230868 N; and thence to point of beginning.

Unit LA-4: Isles Dernieres (Universal Transverse Mercator, Zone 15)

This unit begins at UTM 698530 E, 3217432 N; to 708782 E, 3216806 N; to 715277 E, 3216806 N; to 731084 E, 3219388 N; to 731084 E, 3216962 N; to 716920 E, 3213363 N; to 707529 E, 3213910 N; to 698530 E, 3214536 N; thence northerly to point of beginning. This unit encompasses the Isles Dernieres chain.

Unit LA-5: Timbalier Islands to Grand Terre Islands (Universal Transverse Mercator, Zone 15)

This unit begins at UTM 737901 E, 3223034 N; to 749533 E, 3219087 N; to 763242 E, 3221995 N; to 803331 E, 3250243 N; to 806862 E, 3246089 N; to 773005 E, 3219087 N; to 763865 E, 3215349 N; to 749325 E, 3213479 N; to 735824 E, 3219295 N; thence northerly to point of beginning. This unit encompasses West and East Timbalier, follows MLW from Belle Pass to Cheniere Caminada, Grand Isle, and Grand Terre Islands.

Unit LA-6: Mississippi River Delta. (Universal Transverse Mercator, Zone 16)

This unit begins at UTM 267834 E, 3247846 N; to 268961 E, 3249198 N; to 271503 E, 3250653 N; to 287395 E, 3254768 N; to 315258 E, 3241711 N; to 317534 E, 3220817 N; to 294326 E, 3197342 N; to 259412 E, 3193296 N; to 251566 E, 3208850 N; to 266348 E, 3225720 N; thence northeasterly following Tiger Pass to the Mississippi River; thence to point of beginning. This unit encompasses the Mississippi River delta.

Unit LA-7: Breton Islands and Chandeleur Island Chain (Universal Transverse Mercator, Zone 16)

This unit begins at UTM 310382 E, 3328490 N; to 327636 E, 3327583 N; to 329708 E, 3302375 N; to 316990 E, 3279632 N; to 293519 E, 3258792 N; to 281941 E, 3258032 N; to 282185 E, 3262771 N; to 307096 E, 3298127 N; thence to point of beginning. This unit encompasses Breton Islands and the Chandeleur Island Chain.

Texas

Projections: Universal Transverse Mercator, Zones 14 and 15.

Unit TX-1: South Bay and Boca Chica (Universal Transverse Mercator, Zone 14)

This unit begins at UTM 685873 E, 2872207 N; thence southwesterly to 685500 E, 2872000 N; thence to 684447 E, 2873206 N; to 683448 E, 2873264 N; to 682935 E, 2872978 N; to 682479 E, 2873691 N; to 681252 E, 2873891 N; thence westerly to 676573 E, 2873834 N; thence northerly to 675546 E, 2879026 N and thence along the Brownsville Ship Channel to 683862 E, 2884018 N; to 685159 E, 2884283 N; thence southerly parallel to the shoreline to 685041 E, 2882500 N; to 685040 E, 2879649 N; to 685338 E, 2875729 N; to 685873 E, 2872208 N; thence to point of beginning.

Unit TX-2: Queen Isabella Causeway (Universal Transverse Mercator, Zone 14)

This is made up of two sub-units. The more northerly sub-unit begins at UTM 683465 E, 2887073 N; thence southerly to 683454 E, 2886979 N; to 683465 E, 2886565 N; thence westerly to 683087 E, 2886542 N; thence northerly to 683075 E, 2886754 N; thence northeasterly to 683205 E, 2886955 N; to 683288 E, 2887050 N; to 683383 E, 2887109 N; thence southeasterly to the point of beginning. The southerly sub-unit begins at UTM 683454 E, 2886423 N; thence southerly to 683489 E, 2886045 N; to 683489 E, 2885939 N; to 683489 E, 2885844 N; to 683489 E, 2885785 N; thence westerly to 683383, 2885750 N; to 683312 E, 2885750 N; thence northwesterly to 683217 E, 2885785 N; to 683158 E, 2885856 N; thence northerly to 683146 E, 2886045 N; to 683111 E, 2886128 N; to 683111 E, 2886246 N; to 683182 E, 2886412 N; and thence easterly to point of beginning.

Unit TX-3: Padre Island (Universal Transverse Mercator, Zone 14)

This unit includes the beach of Padre Island from UTM 660374 E, 2987111 N; to 660873 E, 2987115 N; to 660747 E, 2992864 N; to 660888 E, 2999146 N; to 661150 E, 3003029 N; to 662048 E, 3010653 N; to 663661 E, 3019205 N; to 665497 E, 3026173 N; to 666273 E, 3028714 N; to 667846 E, 3033212 N; to 668149 E, 3034271 N; to 671567 E, 3042803 N; to 673332 E, 3046907 N; to 674139 E, 3048460 N; to 675420 E, 3051375 N; to 675500 E, 3051284 N; to 675218 E, 3050568 N; to 671295 E, 3041835 N; to 668471 E, 3034725 N; to 666596 E, 3029158 N; to 665587 E, 3025830 N; to 664024 E, 3019800 N; to 662824 E, 3014041 N; to 662148 E, 3010280 N; to 661362 E, 3003513 N; to 661069 E, 2999348 N; to 660868 E, 2992702 N; to 661034 E, 2987105 N; to 661368 E, 2983370 N; to 661807 E, 2980583 N; to 662399 E, 2975676 N; to 663022 E, 2971878 N; to 664648 E, 2964434 N; to 665848 E, 2959511 N; to 668972 E, 2947853 N; to 671919 E, 2939214 N; to 672421 E, 2939087 N; to 672635 E, 2937587 N; to 674836 E, 2930642 N; to 676729 E, 2924226 N; to 680368 E, 2910491 N; to 681467 E, 2905154 N; to 682506 E, 2898584 N; to 683065 E, 2894294 N; to 683071 E, 2891861 N; to 683185 E, 2891886 N; to 682858 E, 2893768 N; thence from this point at the beach westerly to 680000 E, 2893665 N and including the width of the island and into the waters of the Laguna Madre; thence northwesterly, paralleling Padre Island to a point in the Land Cut at 652835 E, 2965385 N; thence westerly to 651755 E, 2965790 N; thence southwesterly to 651619 E, 2957672 N; thence southerly to 652835 E, 2965385 N; thence westerly to 652280 E, 2958438 N; thence northerly to 650549 E, 2961126 N; to 648431 E, 2963764 N; to 646973 E, 2965847 N; to 645029 E, 2967653 N; to 643640 E, 2969319 N; to 643363 E, 2971263 N; thence easterly to 652598 E, 2971263 N; thence northeasterly following the east side of the Gulf Intercoastal Waterway to 661249 E, 3029777 N; thence easterly to 663623 E, 3029895 N; thence southerly to 663207 E, 3021943 N; to 662495 E, 3019451 N; to 661664 E, 3015712 N; to 661308 E, 3011380 N; to 660655 E, 3004971 N; to 660181 E, 2998324 N; to 660121, 2990254 N; to 660121 E, 2987108 N; and thence to point of beginning.

Unit TX-4: Lower Laguna Madre Mainland (Universal Transverse Mercator, Zone 14)

This unit begins at UTM 658444 E, 2935883 N; thence southward to 671624 E, 2904045 N; thence westward to 666802 E, 2903931 N; thence northward to 664748 E, 2908439 N; to 663978 E, 2914002 N; to 661225 E, 2916427 N; to 659585 E, 2921419 N; to 657032 E, 2925071 N; to 656019 E, 2929378 N; to 654664 E, 2932830 N; to 654963 E, 2935227 N; to 655063 E, 2935854 N; and thence eastward to the point of beginning.

Unit TX-5: Upper Laguna Madre (Universal Transverse Mercator, Zone 14)

This unit begins at UTM 673798 E, 3052081 N; thence southward to 672053 E, 3048473 N; to 670653 E, 3045733 N; thence westward to 669263 E, 3046403 N; thence northward to 672112 E, 3053008 N; and thence eastward to the point of beginning.

Unit TX-6: Mollie Beattie Coastal Habitat (Universal Transverse Mercator, Zone 14)

This unit begins at UTM 678172 E, 3059908 N; thence southward to 677405 E, 3058094 N; thence eastward to 677858 E, 3057833 N; to 678119 E, 3057686 N; thence southward to 677767 E, 3056960 N; thence westward to 677053 E, 3057255 N; thence southward to 676671 E, 3056774 N; to 676301 E, 3056162 N; thence northeastward to 676242 E, 3056497 N; to 676104 E, 3056951 N; to 676006 E, 3057286 N; to 675809 E, 3057601 N; to 675477 E, 3058111 N; to 674978 E, 3058560 N; to 674404 E, 3058784 N; thence northward to 674728 E, 3060656 N; and thence eastward to the point of beginning.

Unit TX-7: Newport Pass/Corpus Christi Pass Beach (Universal Transverse Mercator, Zone 14)

This unit begins at UTM 677048 E, 3055202 N; to 678177 E, 3057815 N; to 680170 E, 3061978 N; to 680502 E, 3062531 N; to 680746 E, 3062775 N; to 680834 E, 3062709 N; to 680701 E, 3062399 N; to 680192 E, 3061442 N; to 679468 E, 3059840 N; to 678709 E, 3058435 N; to 677601 E, 3055977 N; to 677469 E, 3055468 N; to 677225 E, 3055069 N; and thence to point of beginning.

Unit TX-8: Mustang Island Beach (Universal Transverse Mercator, Zone 14)

This unit begins at the north side of the jetties at Fish Pass at UTM 691226 E, 3078851 N; to 690776 E, 3078110 N; to 690080 E, 3077455 N; to 688505 E, 3075340 N; to 686613 E, 3072634 N; to 682546 E, 3065647 N; to 680966 E, 3062643 N; to 680881 E, 3062955 N; to 680966 E, 3063309 N; to 682482 E, 3066143 N; to 684870 E, 3070253 N; to 686819 E, 3073399 N; to 687074 E, 3073696 N; to 687315 E, 3074221 N; to 691028 E, 3079167 N; and thence to point of beginning.

Unit TX-9: Fish Pass Lagoons (Universal Transverse Mercator, Zone 14)

This unit begins at UTM 680442 E, 65066 N; thence southwesterly to 679648 E, 64333 N; to 678517 E, 3063863 N; thence westerly to 678231 E, 3064003 N; thence northeasterly to 679550 E, 3065735 N; and thence to point of beginning.

Unit TX-10: Shamrock Island and adjacent Mustang Island Flats (Universal Transverse Mercator, Zone 14)

This unit begins at UTM 681034 E, 3072873 N; thence southeasterly to 681886 E, 3070162 N; thence southerly to 680698 E, 3066887 N; thence westerly to 680028 E, 3067222 N; thence northerly to 679600 E, 3072256 N; and thence to point of beginning. This unit includes Shamrock Island in it's entirety.

Unit TX-11: Blind Oso (Universal Transverse Mercator, Zone 14)

This unit begins at UTM 664615 E, 3067077 N; thence southerly to 664641 E, 3066483 N; thence southeasterly to 665028 E, 3066238 N; thence southerly to 664938 E, 3066122 N; thence northwesterly to 664073 E, 3066612 N; thence northerly to 664241 E, 3066780 N; to 664537 E, 3067142 N; and thence easterly to the point of beginning.

Unit TX-12: Adjacent to Naval Air Station-Corpus Christi (Universal Transverse Mercator, Zone 14)

This unit begins at UTM 667351 E, 3066070 N; thence southerly to 667196 E, 3065347 N; to 667635 E, 3064702 N; thence westerly to 666848 E, 3064457 N; thence northerly to 666706 E, 3066070 N; and thence easterly to the point of beginning.

Unit TX-13: Sunset Lake (Universal Transverse Mercator, Zone 14)

This unit begins at UTM 665015 E, 3083380 N; thence southwesterly to 661801 E, 3081237 N; thence northwesterly to 661246 E, 3081612 N; thence northeasterly to 661801 E, 3082206 N; to 662885 E, 3083083 N; to 664344 E, 3084335 N; to 665015 E, 3083380 N; and thence southeasterly to the point of beginning.

Unit TX-14: East Flats (Universal Transverse Mercator, Zone 14)

This unit begins at UTM 688637 E, 3079701 N; thence southerly to 688650 E, 3078204 N; thence westerly to 687295, 3077868 N; to 686673 E, 3077871 N; to 686532 E, 3077816 N; to 685545 E, 3077621 N; thence northwesterly to 685426 E, 3077643 N; to 685295 E, 3077708 N; to 684519 E, 3078707 N; thence easterly to 686559 E, 3079172 N; to 687036 E, 3079314 N; to 687966 E, 3079546 N; and thence to point of beginning.

Unit TX-15: North Pass (Universal Transverse Mercator, Zone 14)

This unit begins at UTM 695839 E, 3087963 N; thence southerly to 694626 E, 3086194 N; thence westerly to 692974 E, 3086375 N; thence northwesterly to 692626 E, 3086956 N; thence northerly to 693168 E, 3089021 N; thence northeasterly to 694562 E, 3089486 N; and thence southeasterly to the point of beginning.

Unit TX-16: San Jose Beach (Universal Transverse Mercator, Zone 14)

This unit includes the entire Gulf beach of San Jose Island and begins at UTM 697916 E, 3090741 N; to 700216 E, 3093904 N; to 703257 E, 3097615 N; to 705831 E, 3100584 N; to 710300 E, 3105408 N; to 710897 E, 3105618 N; to 710461 E, 3105021 N; to 708356 E, 3102778 N; to 706766 E, 3100906 N; to 705105 E, 3099244 N; to 703096 E, 3096921 N; to 701022 E, 3094420 N; to 699957 E, 3092903 N; to 695841 E, 3087614 N; to 695332 E, 3086917 N; to 694859 E, 3086143 N; to 693890 E, 3084377 N; to 693342 E, 3083367 N; to 692955 E, 3082544 N; to 692535 E, 3080979 N; to 692342 E, 3081012 N; to 692342 E, 3081415 N; to 692745 E, 3082625 N; to 693431 E, 3084061 N; to 694609 E, 3086175 N; to 695835 E, 3087982 N; and thence to point of beginning.

Unit TX-17: Allyn's Bight (Universal Transverse Mercator, Zone 14)

This unit begins at UTM 698887 E, 3094781 N; thence southward to 698101 E, 3093295 N; to 697384 E, 3092596 N; thence northwesterly to 697191 E, 3092969 N; thence northeasterly to 697943 E, 3093872 N; to 698398 E, 3094869 N; and thence easterly to point of beginning.

Unit TX-18: Cedar Bayou/Vinson Slough (Universal Transverse Mercator, Zone 14)

This unit begins at UTM 711954 E, 3107022 N; thence southwesterly to 711432 E, 3106460 N; to 711075 E, 3105869 N; to 710566 E, 3105548 N; thence westerly to 708930 E, 3106574 N; to 708748 E, 3106453 N; to 707307 E, 3106358 N; thence southwesterly to 705867 E, 3105048 N; to 704008 E, 3104106 N; to 701894 E, 3102770 N; to 700367 E, 3100768 N; thence westerly to 699745 E, 3101079 N; thence northeasterly to 700884 E, 3102885 N; to 701966 E, 3104814 N; to 702879 E, 3105294 N; to 703234 E, 3107891 N; to 704336 E, 3109535 N; to 705576 E, 3110323 N; to 707448 E, 3110722 N; thence southeasterly to 708389 E, 3108657 N; to 710986 E, 3107648 N; thence easterly to 711981 E, 3107626 N; and thence southerly to point of beginning.

Unit TX-19: Matagorda Island Beach (Universal Transverse Mercator, Zone 14)

This unit begins at UTM 711679 E, 3106700 N; to 712072 E, 3107143 N; to 719482 E, 3114003 N; to 727781 E, 3120888 N; to 731368 E, 3123559 N; to 732625 E, 3124632 N; to 734907 E, 3126297 N; to 736453 E, 3127359 N; to 738783 E, 3128933 N; to 744276 E, 3132173 N; to 747274 E, 3133613 N; to 751925 E, 3135990 N; to 753306 E, 3137575 N; to 753885 E, 3138902 N; to 754016 E, 3139896 N; to 753970 E, 3141206 N; to 754226 E, 3142689 N; to 754891 E, 3143456 N; to 756294 E, 3142070 N; to 756267 E, 3140080 N; to 753623 E, 3136859 N; to 752353 E, 3135655 N; to 744093 E, 3131440 N; to 738712 E, 3128193 N; to 733096 E, 3124292 N; to 730729 E, 3122457 N; to 726289 E, 3119160 N; to 722048 E, 3115757 N; to 718679 E, 3112894 N; to 715853 E, 3110286 N; to 713342 E, 3107943 N; to 712318 E, 3106961 N; to 711439 E, 3106254 N; to 711350 E, 3106315 N; and thence to point of beginning.

Unit TX-20: Ayres Point. (Universal Transverse Mercator, Zone 14)

This unit begins at UTM 719291 E, 3120010 N; thence southerly to 719459 E, 3119190 N; to 719313 E, 3118595 N; to 718584 E, 3116977 N; thence westerly to 717684 E, 3117280 N; thence northeasterly to 716516 E, 3119572 N; thence northwesterly to 717134 E, 3119920 N; and thence easterly to the point of beginning.

Unit TX-21: Panther Point to Pringle Lake. (Universal Transverse Mercator, Zone 14)

This unit begins at UTM 747208 E, 3136566 N; to 747398 E, 3135618 N; to 746779 E, 3135217 N; to 744211 E, 3135163 N; to 742997 E, 3134973 N; to 741707 E, 3134290 N; to 741290 E, 3133531 N; to 739696 E, 3132583 N; to 738141 E, 3132317 N; to 737117 E, 3131483 N; to 735561 E, 3130951 N; to 734461 E, 3130306 N; to 733740 E, 3129282 N; to 732412 E, 3128789 N; to 730629 E, 3126513 N; to 730212 E, 3125375 N; to 728277 E, 3123819 N; to 726456 E, 3122947 N; to 725773 E, 3121808 N; to 725052 E, 3123516 N; to 726722 E, 3123705 N; to 728922 E, 3125147 N; to 730515 E, 3127613 N; to 732943 E, 3130231 N; to 733816 E, 3131445 N; to 735334 E, 3132507 N; to 737382 E, 3133304 N; to 739658 E, 3133304 N; to 740417 E, 3133873 N; to 740683 E, 3134593 N; to 742580 E, 3135921 N; to 744856 E, 3136187 N; and thence to point of beginning.

Unit TX-22: Decros Point. (Universal Transverse Mercator, Zone 14)

This unit begins at UTM 758150 E, 3144162 N; to 757876 E, 3143728 N; to 757587 E, 3143470 N; to 757555 E, 3143229 N; to 756880 E, 3142747 N; to 755947 E, 3142843 N; to 755272 E, 3143406 N; to 760175 E, 3148148 N; to 761091 E, 3148261 N; to 761332 E, 3147939 N; to 757729 E, 3144573 N; to 757882 E, 3144345 N; to 760539 E, 3146652 N; to 761188 E, 3147069 N; to 761332 E, 3147157 N; to 761558 E, 3147193 N; to 761528 E, 3147054 N; to 760709 E, 3146529 N; to 759310 E, 3145381 N; and thence to point of beginning.

Unit TX-23: West Matagorda Peninsula Beach. (Universal Transverse Mercator, Zone 14)

This unit begins at UTM 762390 E, 3147270 N; to 763800 E, 3148958 N; to 767399 E, 3151653 N; to 771970 E, 3154759 N; to 774347 E, 3156019 N; to 775973 E, 3156956 N; to 782779 E, 3160686 N; to 786739 E, 3162808 N; to 788931 E, 3163921 N; to 790221 E, 3164575 N; to 792095 E, 3165530 N; to 793103 E, 3166025 N; to 793491 E, 3166202 N; to 794030 E, 3166130 N; to 794570 E, 3166591 N; to 794839 E, 3166662 N; to 795024 E, 3166870 N; to 795140 E, 3167170 N; to 795278 E, 3167262 N; to 795324 E, 3166939 N; to 795105 E, 3166546 N; to 794712 E, 3166407 N; to 794388 E, 3166084 N; to 793972 E, 3165899 N; to 793672 E, 3166014 N; to 793509 E, 3165919 N; to 792802 E, 3165636 N; to 786968 E, 3162578 N; to 783221 E, 3160616 N; to 778377 E, 3157946 N; to 777069 E, 3157151 N; to 775443 E, 3156232 N; to 771403 E, 3154089 N; to 770779 E, 3153557 N; to 769023 E, 3152424 N; to 767729 E, 3151408 N; to 766111 E, 3150321 N; to 763661 E, 3148426 N; to 763222 E, 3147964 N; to 762598 E, 3147062 N; and thence to point of beginning.

Unit TX-24: West Matagorda Bay/Western Peninsula Flats. (Universal Transverse Mercator, Zone 14)

This unit begins at UTM 774345 E, 3156133 N; thence southwesterly to 772428 E, 3155203 N; to 771876 E, 3154746 N; to 770867 E, 3154257 N; to 768249 E, 3152806 N; to 765489 E, 3151418 N; thence northwesterly to 765110 E, 3152049 N; thence northeasterly to 771105 E, 3155912 N; to 771973 E, 3156571 N; to 773682 E, 3157269 N; and thence southeasterly to the point of beginning.

Unit TX-25: West Matagorda Bay/Eastern Peninsula Flats. (Universal Transverse Mercator, Zone 14)

This unit begins at UTM 787656 E, 3163708 N; thence southwesterly to 786095 E, 3163152 N; to 783571 E, 3161938 N; thence northeasterly to 783256 E, 3162774 N; thence northwesterly to 784191 E, 3163414 N; to 787165 E, 3164493 N; thence southeasterly to 787719 E, 3164272 N; and thence southerly to the point of beginning.

Unit TX-26: Colorado River Diversion Delta. (Universal Transverse Mercator, Zone 15)

This unit begins at UTM 208237 E, 3173005 N; thence southerly to 208268 E, 3172820 N; to 208268 E, 3172279 N; to 207882 E, 3171630 N; to 207882 E, 3171429 N; to 207898 E, 3170750 N; to 207280 E, 3170039 N; thence westerly to 206677 E, 3169931 N; thence northwesterly to 206044 E, 3170672 N; to 205766 E, 3171059 N; thence northeasterly to 206476 E, 3171677 N; thence northerly to 206708 E, 3172712 N; thence easterly to 207002 E, 3172882 N; to 207202 E, 3172866 N; to 207836 E, 3172851 N; and thence northeasterly to point of beginning.

Unit TX-27: East Matagorda Bay/Matagorda Peninsula Beach West. (Universal Transverse Mercator, Zone 15)

This unit begins at UTM 226862 E, 3175139 N; to 227500 E, 3175402 N; to 227677 E, 3175329 N; to 227750 E, 3175152 N; to 227603 E, 3174924 N; to 225118 E, 3173669 N; to 222899 E, 3172573 N; to 219782 E, 3171187 N; to 218231 E, 3170379 N; to 214364 E, 3168832 N; to 213023 E, 3168216 N; to 210968 E, 3167468 N; to 208653 E, 3166425 N; to 208462 E, 3166425 N; to 208326 E, 3166560 N; to 208381 E, 3166833 N; to 208702 E, 3167021 N; to 210773 E, 3167929 N; to 212835 E, 3168679 N; to 214169 E, 3169293 N; to 218035 E, 3170840 N; to 219568 E, 3171639 N; to 222686 E, 3173025 N; and thence to point of beginning.

Unit TX-28: East Matagorda Bay/Matagorda Peninsula Beach East. (Universal Transverse Mercator, Zone 15)

This unit begins at UTM 236392 E, 3179828 N; to 235729 E, 3179498 N; to 235553 E, 3179571 N; to 235479 E, 3179748 N; to 235609 E, 3179967 N; to 239774 E, 3182423 N; to 240581 E, 3182748 N; to 244007 E, 3184674 N; to 244214 E, 3184681 N; to 244350 E, 3184546 N; to 244350 E, 3184354 N; to 244230 E, 3184226 N; to 240835 E, 3182317 N; to 240003 E, 3181979 N; to 238877 E, 3181350 N; and thence to point of beginning.

Unit TX-29: Brown Cedar Cut. (Universal Transverse Mercator, Zone 15)

This unit begins at UTM 238043 E, 3181533 N; thence southwesterly to 236358 E, 3180400 N; to 236358 E, 3180400 N; to 235673 E, 3180032 N; to 235410 E, 3180611 N; to 236068 E, 3181691 N; to 236331 E, 3182086 N; to 237438 E, 3181954 N; to 237912 E, 3181717 N; and thence to point of beginning.

Unit TX-30: Northeast Corner East Matagorda Bay. (Universal Transverse Mercator, Zone 15)

This unit begins at UTM 241179 E, 3183462 N; thence southerly to 241147 E, 3182929 N; thence southwesterly to 240585 E, 3182506 N; to 239944 E, 3182291 N; thence northwesterly to 239567 E, 3182891 N; to 239631 E, 3183361 N; to 239665 E, 3183610 N; to 239225 E, 3183483 N; to 239140 E, 3183483 N; to 239145 E, 3183678 N; to 239599 E, 3184486 N; to 240775 E, 3184232 N; and thence to point of beginning.

Unit TX-31: San Bernard NWR Beach. (Universal Transverse Mercator, Zone 15)

This unit begins at UTM 251823 E, 3188411 N; to 251424 E, 3188346 N; to 251289 E, 3188482 N; to 251289 E, 3188673 N; to 251424 E, 3188808 N; to 252280 E, 3189177 N; to 254098 E, 3190183 N; to 255035 E, 3190831 N; to 258881 E, 3193084 N; to 260170 E, 3193947 N; to 260998 E, 3194386 N; to 261528 E, 3194537 N; to 262024 E, 3194968 N; to 262215 E, 3194968 N; to 262351 E, 3194833 N; to 262304 E, 3194568 N; to 261791 E, 3194109 N; to 261186 E, 3193922 N; to 260437 E, 3193524 N; to 259954 E, 3193158 N; to 257191 E, 3191562 N; to 254324 E, 3189735 N; and thence to point of beginning.

Unit TX-32: Gulf Beach Between Brazos and San Bernard Rivers. (Universal Transverse Mercator, Zone 15)

This units begins at UTM 262548 E, 3194350 N; to 262128 E, 3194624 N; to 262128 E, 3194816 N; to 262264 E, 3194951 N; to 262601 E, 3194863 N; to 264453 E, 3194851 N; to 266249 E, 3195136 N; to 267426 E, 3195461 N; to 267698 E, 3196681 N; to 267929 E, 3196835 N; to 268160 E, 3196681 N; to 268048 E, 3195725 N; to 267920 E, 3195309 N; to 267682 E, 3195019 N; to 266342 E, 3194644 N; to 264500 E, 3194353 N; and thence to point of beginning.

Unit TX-33: Bryan Beach and Adjacent Beach. (Universal Transverse Mercator, Zone 15)

This unit begins at UTM 268624 E, 3196451 N; to 268185 E, 3196267 N; to 268009 E, 3196340 N; to 267935 E, 3196517 N; to 268009 E, 3196693 N; to 268293 E, 3196829 N; to 269534 E, 3197956 N; to 271225 E, 3199359 N; to 271664 E, 3199731 N; to 272205 E, 3200086 N; to 272374 E, 3200255 N; to 272509 E, 3200153 N; to 272577 E, 3200018 N; to 270278 E, 3198086 N; to 269289 E, 3197181 N; and thence to point of beginning.

Unit TX-34: San Luis Pass. (Universal Transverse Mercator, Zone 15)

This unit begins at UTM 293994 E, 3219228 N; to 293207 E, 3219413 N; to 292404 E, 3219814 N; to 292002 E, 3220484 N; to 292169 E, 3221053 N; to 292960 E, 3221348 N; to 294362 E, 3220852 N; to 294781 E, 3220718 N; to 294647 E, 3220367 N; to 294865 E, 3220283 N; to 294965 E, 3220166 N; to 297057 E, 3221773 N; to 298916 E, 3223246 N; to 299066 E, 3223012 N; to 295250 E, 3219898 N; to 294613 E, 3219396 N; and thence to point of beginning.

Unit TX-35: Big Reef. (Universal Transverse Mercator, Zone 15)

This unit begins at UTM 330764 E, 3246116 N; to 330706 E, 3246117 N; to 330669 E, 3246029 N; to 330559 E, 3246024 N; to 330489 E, 3246033 N; to 330393 E, 3246059 N; to 330279 E, 3246050 N; to 330043 E, 3246068 N; to 329895 E, 3246146 N; to 330341 E, 3246304 N; to 330472 E, 3246348 N; to 330542 E, 3246365 N; to 330608 E, 3246377 N; to 330658 E, 3246407 N; to 330710 E, 3246416 N; to 330752 E, 3246415 N; to 330874 E, 3246434 N; to 330954 E, 3246436 N; to 331062 E, 3246433 N; to 331164 E, 3246442 N; to 331586 E, 3246563 N; to 331629 E, 3246569 N; to 331661 E, 3246568 N; to 331717 E, 3246554 N; to 331734 E, 3246545 N; to 331783 E, 3246513 N; to 331803 E, 3246513 N; to 331843 E, 3246524 N; to 331878 E, 3246529 N; to 332046 E, 3246533 N; to 332103 E, 3246519 N; to 332130 E, 3246502 N; to 332152 E, 3246483 N; to 332181 E, 3246432 N; to 332232 E, 3246391 N; to 332243 E, 3246306 N; to 332315 E, 3246165 N; to 332426 E, 3246070 N; to 332516 E, 3245965 N; to 332659 E, 3245879 N; to 332806 E, 3245776 N; to 332972 E, 3245701 N; to 332815 E, 3245718 N; to 332649 E, 3245753 N; to 332378 E, 3245788 N; to 332212 E, 3245797 N; to 332150 E, 3245718 N; to 332058 E, 3245667 N; to 331993 E, 3245753 N; to 331958 E, 3245910 N; to 331967 E, 3246068 N; to 331923 E, 3246181 N; to 331862 E, 3246208 N; to 331861 E, 3246218 N; to 331818 E, 3246213 N; to 331730 E, 3246215 N; to 331673 E, 3246229 N; to 331656 E, 3246239 N; to 331621 E, 3246262 N; to 331233 E, 3246151 N; to 331206 E, 3246146 N; to 331079 E, 3246134 N; to 330955 E, 3246156 N; to 330839 E, 3246126 N; to 330784 E, 3246117 N; and thence to point of beginning.

Unit TX-36: Bolivar Flats. (Universal Transverse Mercator, Zone 15)

This unit begins at UTM 333801 E, 3252955 N; thence southerly to 333711 E, 3252850 N; to 333454 E, 3252525 N; to 333344 E, 3252248 N; to 333195 E, 3251778 N; to 333158 E, 3251390 N; to 333158 E, 3251094 N; to 333026 E, 3250221 N; to 333140 E, 3249540 N; to 333251 E, 3249188 N to 333251 E, 3248634 N; thence southerly to the jetties at 333300 E, 3248400 N; thence westerly along the north edge of the north jetties to 330155 E, 3250145 N; thence northeasterly parallel to the shoreline of the island to 333047 E, 3252610 N; to 333510 E, 3253203 N; and thence to point of beginning.

Unit TX-37: Rollover Pass. (Universal Transverse Mercator, Zone 15)

This unit begins at UTM 355135 E, 3267188 N; thence southeasterly to 355227 E, 3267040 N; to 355671 E, 3266781 N; to 355819 E, 3266522 N; to 355764 E, 3266152 N; to 355523 E, 3265689 N; to 355135 E, 3265449 N; to 354654, 3265227 N; to 354358 E, 3265023 N; to 353618 E, 3265708 N; to 353063 E, 3266281 N; and thence northeasterly to the point of beginning.

1. The primary constituent elements essential for the conservation of wintering piping plovers are those habitat components that support foraging, roosting, and sheltering and the physical features necessary for maintaining the natural processes that support these habitat components. The primary constituent elements include intertidal beaches and flats (between annual low tide and annual high tide) and associated dune systems and flats above annual high tide. Important components of intertidal flats include sand and/or mud flats with no or very sparse emergent vegetation. In some cases, these flats may be covered or partially covered by a mat of blue-green algae. Adjacent non-or sparsely vegetated sand, mud, or algal flats above high tide are also important, especially for roosting piping plovers, and are primary constituent elements of piping plover wintering habitat. Such sites may have debris, detritus (decaying organic matter), or micro-topographic relief (less than 50 cm above substrate surface) offering refuge from high winds and cold weather. Important components of the beach/dune ecosystem include surf-cast algae, sparsely vegetated backbeach (beach area above mean high tide seaward of the permanent dune line, or in cases where no dunes exist, seaward of a delineating feature such as a vegetation line, structure, or road), spits, and washover areas. Washover areas are broad, unvegetated zones, with little or no topographic relief, that are formed and maintained by the action of hurricanes, storm surge, or other extreme wave action.

2. Critical habitat does not include existing developed sites consisting of buildings, marinas, paved areas, boat ramps, and similar structures.

* * * * *

Dated: June 28, 2000.
Donald J. Barry,
Assistant Secretary for Fish and Wildlife and Parks.

[FR Doc. 00-16816 Filed 6-30-00; 9:00 am]

BILLING CODE 4310-55-C